ENVIRONMENTAL PROTECTION AGENCY

40 CFR Part 63

[EPA-HQ-OAR-2016-0447 and EPA-HQ-OAR-2016-0449; FRL-10006-04-OAR]

RIN 2060-AT12

National Emission Standards for Hazardous Air Pollutants: Boat Manufacturing and Reinforced Plastic Composites Production Risk and Technology Review

AGENCY: Environmental Protection Agency (EPA).

ACTION: Final rule.

SUMMARY: This action finalizes the residual risk and technology reviews (RTR) conducted for the Boat Manufacturing and the Reinforced Plastic Composites Production source categories regulated under national emission standards for hazardous air pollutants (NESHAP). In addition, we are taking final action addressing emissions during periods of startup, shutdown, and malfunction (SSM) and amending provisions regarding electronic reporting of performance test and performance evaluation results and semiannual reports. These final amendments include removal of regulatory language that is inconsistent with the requirement that the standards apply at all times, inclusion of language requiring electronic reporting of performance test and performance evaluation results and semiannual reports, and an amendment to the Reinforced Plastic Composites Production NESHAP to clarify that mixers that route to a capture and control device system with at least 95-percent efficiency overall are not required to have covers. The numeric emission limits of the standards for both source categories remain unchanged.

DATES: This final rule is effective on March 20, 2020.

ADDRESSES: The U.S. Environmental Protection Agency (EPA) has established a docket for this action under Docket ID No. EPA-HQ-OAR-2016-0447 for the Boat Manufacturing NESHAP and Docket ID No. EPA-HQ-OAR-2016-0449 for the Reinforced Plastic Composites Production NESHAP. All documents in the docket are listed on the https://www.regulations.gov/ website. Although listed, some information is not publicly available, e.g., confidential business information or other information whose disclosure is restricted by statute. Certain other material, such as copyrighted material, is not placed on the internet and will be publicly available only in hard copy form. Publicly available docket materials are available either electronically through https://www.regulations.gov/, or in hard copy at the EPA Docket Center, WJC West Building, Room Number 3334, 1301 Constitution Ave. NW, Washington, DC. The Public Reading Room hours of operation are 8:30 a.m. to 4:30 p.m. Eastern Standard Time (EST), Monday through Friday. The telephone number for the Public Reading Room is (202) 566-1744, and the telephone number for the EPA Docket Center is (202) 566-1742.

FOR FURTHER INFORMATION CONTACT: For questions about this final action, contact Dr. Tina Ndoh, Sector Policies and Programs Division (D234-04), Office of Air Quality Planning and Standards, U.S. Environmental Protection Agency, Research Triangle Park, North Carolina 27711; telephone number: (919) 541-1516; fax number: (919) 541-4991; and email address: ndoh.tina@epa.gov. For specific information regarding the risk modeling methodology, contact Mr. James Hirtz, Health and Environmental Impacts Division (C539-02), Office of Air Quality Planning and Standards, U.S. Environmental Protection Agency, Research Triangle Park, North Carolina 27711; telephone number: (919) 541-0881; fax number: (919) 541-0840; and email address: hirtz.james @epa.gov. For information about the applicability of the NESHAP to a particular entity, contact Mr. John Cox, Office of Enforcement and Compliance Assurance, U.S. Environmental Protection Agency, WJC South Building, (Mail Code 2221A), 1200 Pennsylvania Ave. NW, Washington, DC 20460; telephone number: (202) 564-1395; and email address: cox.john@epa.gov.

SUPPLEMENTARY INFORMATION:

Preamble acronyms and abbreviations. We use multiple acronyms and terms in this preamble. While this list may not be exhaustive, to ease the reading of this preamble and for reference purposes, the EPA defines the following terms and acronyms here:

BMC bulk molding compound

CAA Clean Air Act

CDX Central Data Exchange

CEMS continuous emission monitoring system

CRA Congressional Review Act

EPA Environmental Protection Agency

ERT Electronic Reporting Tool

HAP hazardous air pollutants(s)

HQ hazard quotient

ICR Information Collection Request

MACT maximum achievable control technology

MIR maximum individual risk

NAICS North American Industry Classification System

NESHAP national emission standards for hazardous air pollutants

NTTAA National Technology Transfer and Advancement Act

OMB Office of Management and Budget

PRA Paperwork Reduction Act

RFA Regulatory Flexibility Act

RIN Regulatory Information Number

RTR risk and technology review

SSM startup, shutdown, and malfunction

TOSHI target organ specific health index

tpy tons per year

UMRA Unfunded Mandates Reform Act

Background information. On May 17, 2019 (84 FR 22642), the EPA proposed revisions to the Boat Manufacturing NESHAP and the Reinforced Plastic Composites Production NESHAP based on our RTR. In this action, we are finalizing decisions and revisions for the rule. We summarize some of the more significant comments we timely received regarding the proposed rule and provide our responses in this preamble. A summary of all other public comments on the proposal and the EPA's responses to those comments is available in the Summary of Public Comments and Responses for the Risk and Technology Reviews for Boat Manufacturing NESHAP and Reinforced Plastic Composite NESHAP, Docket ID No. EPA-HQ-OAR-2016-0447 for Boat Manufacturing and EPA-HQ-OAR-2016-0449 for Reinforced Plastic Composites Production. A “track changes” version of the regulatory language that incorporates the changes in this action is available in the docket for each rule.

Organization of this document. The information in this preamble is organized as follows:

I. General Information

A. Does this action apply to me?

B. Where can I get a copy of this document and other related information?

C. Judicial Review and Administrative Reconsideration

II. Background

A. What is the statutory authority for this action?

B. What are the source categories and how does the NESHAP regulate HAP emissions from the source categories?

C. What changes did we propose for the source categories in our May 17, 2019, proposal?

III. What is included in these final rules?

A. What are the final rule amendments based on the risk review for the source categories?

B. What are the final rule amendments based on the technology review for the source categories?

C. What are the final rule amendments addressing emissions during periods SSM?

D. What are the final rule amendments for electronic reporting for the source categories?

E. What are the effective and compliance dates for the Boat Manufacturing and Reinforced Plastic Composites Production source categories?

F. What are the electronic reporting requirements?

G. What are the final rule amendments regarding covers for mixers that route to a control device system?

IV. What is the rationale for our final decisions and amendments for the Boat Manufacturing and Reinforced Plastic Composites Production source categories?

A. Residual Risk Reviews

B. Technology Reviews for the Boat Manufacturing and Reinforced Plastic Composites Production Source Categories

C. SSM Provisions

D. Electronic Reporting Provisions

E. Work Practice Standards for Controlled-Spray Training

V. Summary of Cost, Environmental, and Economic Impacts and Additional Analyses Conducted

A. What are the affected facilities?

B. What are the air quality impacts?

C. What are the cost impacts?

D. What are the economic impacts?

E. What are the benefits?

F. What analysis of environmental justice did we conduct?

G. What analysis of children's environmental health did we conduct?

VI. Statutory and Executive Order Reviews

A. Executive Orders 12866: Regulatory Planning and Review and Executive Order 13563: Improving Regulation and Regulatory Review

B. Executive Order 13771: Reducing Regulations and Controlling Regulatory Costs

C. Paperwork Reduction Act (PRA)

D. Regulatory Flexibility Act (RFA)

E. Unfunded Mandates Reform Act (UMRA)

F. Executive Order 13132: Federalism

G. Executive Order 13175: Consultation and Coordination With Indian Tribal Governments

H. Executive Order 13045: Protection of Children From Environmental Health Risks and Safety Risks

I. Executive Order 13211: Actions Concerning Regulations That Significantly Affect Energy Supply, Distribution, or Use

J. National Technology Transfer and Advancement Act (NTTAA)

K. Executive Order 12898: Federal Actions To Address Environmental Justice in Minority Populations and Low-Income Populations

L. Congressional Review Act (CRA)

I. General Information

A. Does this action apply to me?

Regulated entities. Categories and entities potentially regulated by this action are shown in Table 1 of this preamble.

Table 1—NESHAP and Industrial Source Categories Affected by This Final Action
NESHAP and source category | NAICS ¹ Code
Boat Manufacturing | 336612
Reinforced Plastic Composites Production | 326113
| 326121
| 326122
| 326130
| 326140
| 326191
| 327110
| 327991
| 332321
| 332420
| 333132
| 333415
| 333611
| 333924
| 334310
| 335311
| 335313
| 335932
| 336111
| 336211
| 336213
| 336214
| 336320
| 336413
| 336510
| 337110
| 337125
| 337127
| 337215
| 339920
| 339991
¹ North American Industry Classification System.

Table 1 of this preamble is not intended to be exhaustive, but rather to provide a guide for readers regarding entities likely to be affected by the final action for the source categories listed. To determine whether your facility is affected, you should examine the applicability criteria in the appropriate NESHAP. If you have any questions regarding the applicability of any aspect of this NESHAP, please contact the appropriate person listed in the preceding FOR FURTHER INFORMATION CONTACT section of this preamble.

B. Where can I get a copy of this document and other related information?

In addition to being available in the docket, an electronic copy of this final action will also be available on the internet. Following signature by the EPA Administrator, the EPA will post a copy of this final action at: https://www.epa.gov/stationary-sources-air-pollution/boat-manufacturing-national-emission-standards-hazardous-air for the Boat Manufacturing NESHAP, and https://www.epa.gov/stationary-sources-air-pollution/reinforced-plastic-composites-production-national-emission for the Reinforced Plastic Composites Production NESHAP. Following publication in the Federal Register, the EPA will post the Federal Register version and key technical documents at this same website.

Additional information is available on the RTR website at https://www.epa.gov/stationary-sources-air-pollution/risk-and-technology-review-national-emissions-standards-hazardous. This information includes an overview of the RTR program and links to project websites for the RTR source categories.

C. Judicial Review and Administrative Reconsideration

Under Clean Air Act (CAA) section 307(b)(1), judicial review of this final action is available only by filing a petition for review in the United States Court of Appeals for the District of Columbia Circuit (the Court) by May 19, 2020. Under CAA section 307(b)(2), the requirements established by this final rule may not be challenged separately in any civil or criminal proceedings brought by the EPA to enforce the requirements.

Section 307(d)(7)(B) of the CAA further provides that only an objection to a rule or procedure which was raised with reasonable specificity during the period for public comment (including any public hearing) may be raised during judicial review. This section also provides a mechanism for the EPA to reconsider the rule if the person raising an objection can demonstrate to the Administrator that it was impracticable to raise such objection within the period for public comment or if the grounds for such objection arose after the period for public comment (but within the time specified for judicial review) and if such objection is of central relevance to the outcome of the rule. Any person seeking to make such a demonstration should submit a Petition for Reconsideration to the Office of the Administrator, U.S. EPA, Room 3000, WJC South Building, 1200 Pennsylvania Ave. NW, Washington, DC 20460, with a copy to both the person(s) listed in the preceding FOR FURTHER INFORMATION CONTACT section, and the Associate General Counsel for the Air and Radiation Law Office, Office of General Counsel (Mail Code 2344A), U.S. EPA, 1200 Pennsylvania Ave. NW, Washington, DC 20460.

II. Background

A. What is the statutory authority for this action?

Section 112 of the CAA establishes a two-stage regulatory process to address emissions of hazardous air pollutants (HAP) from stationary sources. In the first stage, we must identify categories of sources emitting one or more of the HAP listed in CAA section 112(b) and then promulgate technology-based NESHAP for those sources. “Major sources” are those that emit, or have the potential to emit, any single HAP at a rate of 10 tons per year (tpy) or more, or 25 tpy or more of any combination of HAP. For major sources, these standards are commonly referred to as maximum achievable control technology (MACT) standards and must reflect the maximum degree of emission reductions of HAP achievable (after considering cost, energy requirements, and non-air quality health and environmental impacts). In developing MACT standards, CAA section 112(d)(2) directs the EPA to consider the application of measures, processes, methods, systems, or techniques, including, but not limited to, those that reduce the volume of or eliminate HAP emissions through process changes, substitution of materials, or other modifications; enclose systems or processes to eliminate emissions; collect, capture, or treat HAP when released from a process, stack, storage, or fugitive emissions point; are design, equipment, work practice, or operational standards; or any combination of the above.

For these MACT standards, the statute specifies certain minimum stringency requirements, which are referred to as MACT floor requirements, and which may not be based on cost considerations. See CAA section 112(d)(3). For new sources, the MACT floor cannot be less stringent than the emission control achieved in practice by the best-controlled similar source. The MACT standards for existing sources can be less stringent than floors for new sources, but they cannot be less stringent than the average emission limitation achieved by the best-performing 12 percent of existing sources in the category or subcategory (or the best-performing five sources for categories or subcategories with fewer than 30 sources). In developing MACT standards, we must also consider control options that are more stringent than the floor under CAA section 112(d)(2). We may establish standards more stringent than the floor, based on the consideration of the cost of achieving the emissions reductions, any non-air quality health and environmental impacts, and energy requirements.

In the second stage of the regulatory process, the CAA requires the EPA to undertake two different analyses, which we refer to as the technology review and the residual risk review. Under the technology review, we must review the technology-based standards and revise them “as necessary (taking into account developments in practices, processes, and control technologies)” no less frequently than every 8 years, pursuant to CAA section 112(d)(6). Under the residual risk review, we must evaluate the risk to public health remaining after application of the technology-based standards and revise the standards, if necessary, to provide an ample margin of safety to protect public health or to prevent, taking into consideration costs, energy, safety, and other relevant factors, an adverse environmental effect. The residual risk review is required within 8 years after promulgation of the technology-based standards, pursuant to CAA section 112(f). In conducting the residual risk review, if the EPA determines that the current standards provide an ample margin of safety to protect public health, it is not necessary to revise the MACT standards pursuant to CAA section 112(f).¹ For more information on the statutory authority for this rule, see the CAA Section 112 Risk and Technology Reviews: Statutory Authority and Methodology memorandum (Docket ID Item No. EPA-HQ-OAR-2016-0447-0080).

¹ The Court has affirmed this approach of implementing CAA section 112(f)(2)(A): NRDC v. EPA, 529 F.3d 1077, 1083 (D.C. Cir. 2008) (“If EPA determines that the existing technology-based standards provide an `ample margin of safety,' then the Agency is free to readopt those standards during the residual risk rulemaking.”).

B. What are the source categories and how does the NESHAP regulate HAP emissions from the source categories?

1. What is the Boat Manufacturing source category and how does the current NESHAP regulate its HAP emissions?

The EPA promulgated the Boat Manufacturing NESHAP on August 22, 2001 (66 FR 44218). The standards are codified at 40 CFR part 63, subpart VVVV (40 CFR 63.5680). The boat manufacturing industry consists of facilities that manufacture fiberglass and aluminum boats. The source category covered by this MACT standard currently includes 93 facilities.

The following processes and operations are found at boat manufacturing facilities: Fiberglass boat manufacturing and assembly operations, fabric and carpet adhesive operations, and aluminum boat surface coating operations. See the proposal for this action for additional detail on the processes at boat manufacturing facilities (84 FR 22645, May 17, 2019). The Boat Manufacturing NESHAP regulates organic HAP from sources that manufacture aluminum recreational boats or any type of fiberglass boats. For the purposes of these standards, recreational boats are defined as a vessel which, by design and construction, is intended by the manufacturer to be operated primarily for pleasure, or to be leased, rented, or chartered to another for the latter's pleasure (rather than for commercial or military purposes). The Boat Manufacturing NESHAP applies to the following operations: All open molding operations including pigmented gel coat, clear gel coat, production resin, tooling resin, and tooling gel coat; all closed molding resin operations; resin and gel coat mixing and operations; resin and gel coat application equipment cleaning operations; carpet and fabric adhesive operations; aluminum hull and deck coating operations, including solvent wipe-down operations; and paint spray gun cleaning operations on aluminum recreational boats. The NESHAP regulates HAP emissions by setting HAP content limits for the resins and gel coats used at each regulated open molding resin and gel coat operation. Regulated entities can comply with the HAP limits by averaging emissions, using compliant materials, or using add-on controls.

2. What is the Reinforced Plastic Composites Production source category and how does the current NESHAP regulate its HAP emissions?

The EPA promulgated the Reinforced Plastic Composites Production NESHAP on April 21, 2003 (68 FR 19375) and amended the standards on August 25, 2005 (70 FR 50118). The standards are codified at 40 CFR part 63, subpart WWWW (40 CFR 63.5780). The reinforced plastic composites production industry consists of facilities that manufacture reinforced and non-reinforced plastic composite products and the production of plastic molding compounds used in the production of plastic composites products. The source category covered by this MACT standard currently includes 448 facilities.

The Reinforced Plastic Composites Production NESHAP applies to the following operations: Open molding, closed molding, centrifugal casting, continuous lamination, continuous casting, polymer casting, pultrusion, sheet molding compound manufacturing, bulk molding compound (BMC) manufacturing, mixing, cleaning of equipment used in reinforced plastic composites manufacture, HAP-containing materials storage, and repair operations on manufactured parts (40 CFR 63.5790). Most existing major sources are required to incorporate pollution-prevention techniques in their production processes. These techniques include the following: Using raw materials containing low amounts of regulated HAP; non-atomized resin application; and covering open resin baths and tanks.

C. What changes did we propose for the source categories in our May 17, 2019, proposal?

On May 17, 2019, the EPA published proposed rules in the Federal Register for the Boat Manufacturing NESHAP, 40 CFR part 63, subpart VVVV, and the Reinforced Plastic Composites Production NESHAP, 40 CFR part 63, subpart WWWW, that took into consideration the RTR analyses. In the proposed rule, we proposed that the risks due to emissions of air toxics from these source categories under the current standards are acceptable and that the standards provide an ample margin of safety to protect public health, and, therefore, no additional emission reductions are necessary. For the technology reviews, we did not identify any developments in practices, processes, or control technologies, and, therefore, we did not propose any changes to the standards under CAA section 112(d)(6). We did, however, solicit comments on the feasibility and associated cost of revising the NESHAP to include a work practice standard that would require controlled-spray operator training.

Additionally, the EPA proposed amendments to provisions addressing emissions during periods of SSM and to provisions regarding electronic reporting of performance test and performance evaluation results and semiannual reports, and proposed an amendment to the Reinforced Plastic Composites Production NESHAP to clarify that mixers that route to a capture and control device system with at least 95-percent efficiency overall are not required to have covers.

III. What is included in these final rules?

This action finalizes the EPA's determinations pursuant to the RTR provisions of CAA section 112 for the Boat Manufacturing and Reinforced Plastic Composites Production source categories. This actions also finalizes other changes to the NESHAP, including:

• Amending provisions addressing emissions during periods of SSM;

• Amending provisions regarding electronic reporting of performance test and performance evaluation results and semiannual reports; and

• An amendment to the Reinforced Plastic Composites Production NESHAP to clarify that mixers that route to a capture and control device system with at least 95-percent efficiency overall are not required to have covers.

A. What are the final rule amendments based on the risk review for the source categories?

This section introduces the final amendments to the Boat Manufacturing and Reinforced Plastic Composites Production NESHAP being promulgated pursuant to CAA section 112(f). Consistent with the proposed findings for these NESHAP, the EPA is finalizing our determination that the risks due to emissions of air toxics from these source categories under the current standards are acceptable and that the standards provide an ample margin of safety to protect public health. The EPA proposed no changes to these two subparts based on the risk reviews conducted pursuant to CAA section 112(f). The EPA received no new data or other information during the public comment period that causes us to change that proposed determination. Therefore, we are not requiring additional controls under CAA section 112(f)(2) for either of the two subparts in this action, and we are not making any changes to the existing standards under CAA section 112(f)(2). In other words, we are readopting the standards for both subparts.

B. What are the final rule amendments based on the technology review for the source categories?

Consistent with the proposed findings for these NESHAP, we determined that there are no developments in practices, processes, and control technologies that warrant revisions to the MACT standards for either of these source categories. Therefore, we are not finalizing any revisions to the MACT standards under CAA section 112(d)(6).

C. What are the final rule amendments addressing emissions during periods SSM?

We are finalizing the proposed amendments to the Boat Manufacturing NESHAP (40 CFR part 63, subpart VVVV) and the Plastic Composites Production NESHAP (40 CFR part 63, subpart WWWW) to remove and revise the provisions related to SSM. In its 2008 decision in Sierra Club v. EPA, 551 F.3d 1019 (D.C. Cir. 2008), the Court vacated portions of two provisions in the EPA's CAA section 112 regulations governing the emissions of HAP during periods of SSM. Specifically, the Court vacated the SSM exemption contained in 40 CFR 63.6(f)(1) and (h)(1), holding that under section 302(k) of the CAA, emissions standards or limitations must be continuous in nature and that the SSM exemption violates the CAA's requirement that some CAA section 112 standards apply continuously. As detailed in section IV.D and IV.I of the proposal preamble for these NESHAP (84 FR 22660 and 22668, May 17, 2019), Table 8 to subpart VVVV of part 63 and Table 15 to subpart WWWW of part 63 (General Provisions applicability tables) are being revised to require that the standards apply at all times. We also eliminated or revised certain recordkeeping and reporting requirements related to the eliminated SSM exemption. The EPA also made other harmonizing changes to remove or modify inappropriate, unnecessary, or redundant language in the absence of the SSM exemption. We determined that facilities in both of these source categories can meet the applicable emission standards in the Boat Manufacturing NESHAP and the Plastic Composites Production NESHAP at all times, including periods of startup and shutdown. Therefore, the EPA determined that no additional standards are needed to address emissions during these periods. The legal rationale and explanation of the changes to the SSM requirements are set forth in the proposed rules. See 84 FR 22660 through 22662 and 22668 through 222669, May 17, 2019.

Further, the EPA is not implementing standards for malfunctions. As discussed in sections IV.D and IV.I of the May 17, 2019, proposal preamble, the EPA interprets CAA section 112 as not requiring emissions that occur during periods of malfunction to be factored into development of CAA section 112 standards, although the EPA has the discretion to set standards for malfunctions where feasible. For these source categories, it is unlikely that a malfunction would result in a violation of the standards, and no comments were submitted that would suggest otherwise. Refer to section IV.D and IV.I of the May 17, 2019, proposal preamble for further discussion of the EPA's rationale for the decision not to set standards for malfunctions, as well as a discussion of the actions a source could take in the unlikely event that a source fails to comply with the applicable CAA section 112(d) standards as a result of a malfunction event, given that administrative and judicial procedures for addressing exceedances of the standards fully recognize that violations may occur despite good faith efforts to comply and can accommodate those situations.

The EPA is finalizing a revision to the performance testing requirements at 40 CFR 63.5765 and 63.5912. The final performance testing provisions prohibit performance testing during SSM for demonstrating compliance as these conditions are not representative of normal operating conditions. The final rules also require that operators maintain records to document that operating conditions during performance tests represent normal conditions.

D. What are the final rule amendments for electronic reporting for the source categories?

The EPA is finalizing electronic reporting requirements that apply to owners and operators of facilities subject to the Boat Manufacturing NESHAP and the Plastic Composites Production NESHAP. Owners and operations are required to submit electronic copies of performance test reports and performance evaluation reports and semiannual reports through the EPA's Central Data Exchange (CDX), using the Compliance and Emissions Data Reporting Interface (CEDRI). A description of the electronic data submission process is provided in the memorandum, Electronic Reporting Requirements for New Source Performance Standards (NSPS) and National Emission Standards for Hazardous Air Pollutants (NESHAP) Rules, available in the dockets for both rules at Docket ID Item Nos. EPA-HQ-OAR-2016-0447-0082 and EPA-HQ-2016-0449-0047. The final rule requires that performance test and performance evaluation report results collected using test methods that are supported by the EPA's Electronic Reporting Tool (ERT) as listed on the ERT website ² at the time of the test be submitted in the format generated through the use of the ERT and that other performance test results be submitted in portable document format using the attachment module of the ERT. For semiannual reports, the final rule requires that owners and operators use the appropriate spreadsheet template to submit information to CEDRI. A draft version of the proposed template for these reports is included in the dockets for this rulemaking (Docket ID Item Nos. EPA-HQ-OAR-2016-0447-0082 and EPA-HQ-OAR-2016-0449-0047). Electronic reporting requirements are discussed further in section IV.D and V.D of this preamble.

² https://www.epa.gov/electronic-reporting-air-emissions/electronic-reporting-tool-ert.

E. What are the effective and compliance dates for the Boat Manufacturing and Reinforced Plastic Composites Production source categories?

The revisions to the MACT standards being promulgated in this action are effective on March 20, 2020.

The EPA is finalizing rule revisions that require affected sources in the Boat Manufacturing and Reinforced Plastic Composites Production source categories that commenced construction or reconstruction on or before May 17, 2019, to comply with all the amendments, including the electronic format for submitting performance test and performance evaluation results and compliance reports, no later than 180 days after the effective date of the final rule. Affected sources that commence construction or reconstruction after May 17, 2019, must comply with all requirements of the subpart, including the amendments being finalized, no later than the effective date of the final rule or upon startup, whichever is later, with the exception of the electronic format for submitting compliance reports. Affected sources that commence construction or reconstruction after May 17, 2019, must comply with all requirements for the electronic format for submitting compliance reports no later than 180 days after the effective date of the final rule or upon startup, whichever is later. The EPA's rationale for these compliance deadlines appears in the proposal preamble (84 FR 22664 and 22670, May 17, 2019). All affected facilities for the Boat Manufacturing source category must continue to meet the current requirements of 40 CFR part 63, subpart VVVV, and for the Plastic Composites Production source category must continue to meet the current requirements of 40 CFR part 63, subpart WWWW, until the applicable compliance date of the amended rule.

F. What are the electronic reporting requirements?

The EPA is requiring owners and operators of boat manufacturing and reinforced plastic composites production facilities to submit electronic copies of certain required performance test reports, performance evaluation reports, and periodic reports through the EPA's CDX using the CEDRI. The final rule requires that performance test and performance evaluation test results be submitted using the ERT. For the periodic compliance reports, the final rule requires that owners and operators use the appropriate spreadsheet template to submit information to CEDRI. The final version of the templates for these reports will be located on the CEDRI website (https://www.epa.gov/electronic-reporting-air-emissions/cedri).

The electronic submittal of the reports addressed in this rulemaking will increase the usefulness of the data contained in those reports, is in keeping with current trends in data availability and transparency, will further assist in the protection of public health and the environment, will improve compliance by facilitating the ability of regulated facilities to demonstrate compliance with requirements and by facilitating the ability of delegated state, local, tribal, and territorial air agencies and the EPA to assess and determine compliance, and will ultimately reduce burden on regulated facilities, delegated air agencies, and the EPA. Electronic reporting also eliminates paper-based manual processes, thereby saving time and resources, simplifying data entry, eliminating redundancies, minimizing data reporting errors, and providing data quickly and accurately to the affected facilities, air agencies, the EPA and the public. For a more thorough discussion of electronic reporting, see the memorandum on e-reporting, available in Docket ID Item No. EPA-HQ-OAR-2016-0447 and EPA-HQ-OAR-2016-0449.

G. What are the final rule amendments regarding covers for mixers that route to a control device system?

In this action, we are finalizing an amendment to Table 4 to 40 CFR part 63, subpart WWWW, to clarify that mixers that route emissions to a capture and control device system that is at least 95-percent efficient overall are not required to have covers. In the 2003 NESHAP rulemaking, we determined that MACT for existing sources was pollution prevention measures (for mixing and BMC manufacturing operations) and that MACT for new sources was 95-percent control. We also considered whether the new source MACT floor for mixing operations should be incorporation of the pollution prevention measures (in this case covering the mixers) combined with 95-percent control. We determined that the best controlled facilities which route emissions to a 95-percent efficient control device do not also incorporate the best pollution prevention techniques. Therefore, we concluded that combining the pollution prevention requirements with the 95-percent control requirements would result in an overall control level that exceeds the levels at the best controlled facilities (66 FR 40332, August 2, 2001). However, the text in table 4 of the regulation did not directly address whether mixers that capture and control emissions by 95 percent overall need to have covers. We have added text in line 6 of table 4 to clarify that covers are not required for mixers that fully capture and route emissions to a control device with at least 95-percent efficiency.

IV. What is the rationale for our final decisions and amendments for the Boat Manufacturing and Reinforced Plastic Composites Production source categories?

For each issue, this section provides a description of what we proposed and what we are finalizing for the issue, the EPA's rationale for the final decisions and amendments, and a summary of key comments and responses. For all comments not discussed in this preamble, comment summaries and the EPA's responses can be found in the comment summary and response document available in the docket.

A. Residual Risk Review

1. What did we propose pursuant to CAA section 112(f)?

a. Boat Manufacturing (40 CFR Part 63, subpart VVVV) Source Category

Pursuant to CAA section 112(f), the EPA conducted a residual risk review and presented the results of this review, along with our proposed decisions regarding risk acceptability and ample margin of safety, in section IV.A of the proposed rule preamble (84 FR 22658, May 17, 2019). The results of this review are presented briefly below in Table 2 of this preamble. Additional detail is provided in the residual risk technical support document titled Residual Risk Assessment for the Boat Manufacturing Source Category in Support of the 2018 Risk and Technology Review Proposed Rule, which is available in the Boat Manufacturing Docket (Docket ID No. EPA-HQ-OAR-2016-0447).

Table 2—Inhalation Risk Assessment Summary for the Boat Manufacturing Source Category
| Cancer MIR (in 1 million): Based on actual emissions | Cancer MIR (in 1 million): Based on allowable emissions | Cancer incidence (cases per year) | Population with risk of 1-in-1 million or greater | Population with risk of 10-in-1 million or greater | Max chronic noncancer hazard index (HI) (actuals and allowables)
Source Category | 0.2 (nickel compounds, ethyl benzene, tetrachloroethene) | 0.3 (nickel compounds, ethyl benzene, tetrachloroethene) | 0.00001 | 0 | 0 | HI < 1.
Whole Facility | 0.4 (naphthalene) |  | 0.00004 | 0 | 0 | HI = 1.

The EPA proposed that the risks from the Boat Manufacturing source category were acceptable based on the health risk information and factors discussed in section IV.C of the proposal for this rulemaking (84 FR 22658, May 17, 2019). As explained in section II.A of the proposal preamble, the EPA sets standards under CAA section 112(f)(2) using “a two-step standard-setting approach, with an analytical first step to determine an 'acceptable risk' that considers all health information, including risk estimation uncertainty, and includes a presumptive limit on maximum individual risk (MIR) of approximately 1-in-10 thousand (84 FR 22644, May 17, 2019).”

For the Boat Manufacturing source category, the risk analysis indicates that the cancer risks to the individual most exposed is 0.2-in-1 million based on actual emissions and is 0.3-in-1 million based on allowable emissions. These risks are considerably less than 100-in-1 million (or 1-in-10 thousand), which is the presumptive upper limit of acceptable risk. The Benzene NESHAP explained that “a MIR of approximately one in 10 thousand should ordinarily be the upper end of the range of acceptability. As risks increase above this benchmark, they become presumptively less acceptable under CAA section 112, and would be weighed with the other health risk measures and information in making an overall judgment on acceptability (54 FR 38057, September 14, 1989). The risk analysis also shows very low cancer incidence (0.00001 cases per year for actual emissions and 0.00002 cases per year for allowable emissions). Based on our analysis, we did not identify potential for adverse chronic noncancer health effects; all target organ specific health indexes (TOSHIs) were less than 1. The acute noncancer risks based on actual emissions are not greater than a hazard quotient (HQ) of 1 for styrene. Therefore, we find there is little potential concern of acute noncancer health impacts from actual emissions. In addition, the risk assessment indicates no significant potential for multipathway health effects or ecological effects. For all the reasons stated, the risk from the Boat Manufacturing source category were found to be acceptable.

Under the ample margin of safety analysis, we evaluated the cost and feasibility of available control technologies and other measures (including the controls, measures, and costs reviewed under the technology review) that could be applied in this source category to further reduce the risks (or potential risks) due to emissions of HAP, considering all of the health risks and other health information considered in the risk acceptability determination described above. In this analysis, we considered the results of the technology review, risk assessment, and other aspects of our MACT rule review to determine whether there are any cost-effective controls or other measures that would reduce emissions further and would be necessary to provide an ample margin of safety to protect public health.

Our risk analysis indicated the risks from the Boat Manufacturing source category are low for both cancer and noncancer health effects, and, therefore, any risk reductions from further available control options would result in minimal health benefits. As noted in section IV.C of the proposal preamble, no additional control measures were identified for reducing HAP emissions from the Boat Manufacturing source category (84 FR 22660, May 17, 2019). Thus, we proposed that the Boat Manufacturing NESHAP provides an ample margin of safety to protect health and we are not making any changes to the existing standards under CAA section 112(f)(2).

b. Reinforced Plastic Composites Production (40 CFR Part 63, subpart WWWW) Source Category

Pursuant to CAA section 112(f), the EPA conducted a residual risk review and presented the results of this review, along with our proposed decisions regarding risk acceptability and ample margin of safety, in section IV.F of the proposed rule preamble (84 FR 22664, May 17, 2019). The results of this review are presented briefly below in Table 3 of this preamble. Additional detail is provided in the residual risk technical support document titled Residual Risk Assessment for the Reinforced Plastic Composites Production Source Category in Support of the 2018 Risk and Technology Review Proposed Rule, which is available in the Boat Manufacturing Docket (Docket ID No. EPA-HQ-OAR-2016-0449).

Table 3—Inhalation Risk Assessment Summary for the Reinforced Plastic Composites Production Source Category
| Cancer MIR (in 1 million): Based on actual emissions | Cancer MIR (in 1 million): Based on allowable emissions | Cancer incidence (cases per year) | Population with risk of 1-in-1 million or greater | Population with risk of 10-in-1 million or greater | Max chronic noncancer hazard index (HI) (actuals and allowables)
Source Category | 4 (formaldehyde, ethyl benzene) | 4 (formaldehyde, ethyl benzene) | 0.001 | 1,500 | 0 | HI = 1.
Whole Facility | 20 (cadmium,7-12-dimethylbenz [a]anthracene, nickel, formaldehyde) |  | 0.001 | 4,500 | 800 | HI = 1.

The EPA proposed that the risks from the Reinforced Plastic Composites Production source category were acceptable based on the health risk information and factors discussed in section IV.G of the proposal for this rulemaking (84 FR 22666, May 17, 2019). As explained in section II.A of the proposal preamble, the EPA sets standards under CAA section 112(f)(2) using “a two-step standard-setting approach, with an analytical first step to determine an ‘acceptable risk' that considers all health information, including risk estimation uncertainty, and includes a presumptive limit on MIR of approximately 1-in-10 thousand (84 FR 22644, May 17, 2019).”

For the Reinforced Plastic Composites Production source category, the risk analysis indicates that the cancer risks to the individual most exposed is 4-in-1 million based on actual emissions and is 4-in-1 million based on allowable emissions. These risks are considerably less than 100-in-1 million (or 1-in-10 thousand), which is the presumptive upper limit of acceptable risk. The risk analysis also shows very low cancer incidence (0.001 cases per year for actual emissions and 0.001 cases per year for allowable emissions). We did not identify potential for adverse chronic noncancer health effects; the TOSHIs were equal to 1. The results of the acute screening analysis estimate a maximum acute noncancer HQ of 3 based on the acute recommended exposure limit for styrene. The maximum off-site concentration for this HAP was also compared to EPA's Acute Exposure Guideline Levels (AEGL-1) and Emergency Response Planning Guideline (ERPG-1) levels and, in all cases, the HQ was less than 1, below the level at which mild, reversible effects would be anticipated. This information, in addition to the conservative (health protective) assumptions built into the screening assessment, leads us to conclude that adverse effects from acute exposure to emissions of this HAP from this category are not anticipated. In addition, the risk assessment indicates no significant potential for multipathway health effects or ecological effects. Considering all the health risk information and factors discussed above, we proposed that the risks from the Reinforced Plastic Composites Production source category are acceptable.

Under the ample margin of safety analysis, we evaluated the cost and feasibility of available control technologies and other measures (including the controls, measures, and costs reviewed under the technology review) that could be applied in this source category to further reduce the risks (or potential risks) due to emissions of HAP, considering all of the health risks and other health information considered in the risk acceptability determination described above. In this analysis, we considered the results of the technology review, risk assessment, and other aspects of our MACT rule review to determine whether there are any cost-effective controls or other measures that would reduce emissions further and would be necessary to provide an ample margin of safety to protect public health.

Our risk analysis indicated the risks from the Reinforced Plastic Composites Production source category are low for both cancer and noncancer health effects, and, therefore, any risk reductions from further available control options would result in minimal health benefits. As noted in section IV.H of the proposal preamble, no additional control measures were identified for reducing HAP emissions from sources in the Reinforced Plastic Composites Production source category (84 FR 22667, May 17, 2019). Thus, we proposed that the Reinforced Plastic Composites Production NESHAP provides an ample margin of safety to protect health and we are not making any changes to the existing standards under CAA section 112(f)(2).

2. How did the risk review change for these source categories?

The EPA has not changed any aspect of the risk assessment for either of these two source categories as a result of public comments received on the May 2019 proposal.

3. What key comments did we receive on the risk review, and what are our responses?

The EPA received comments in support of and against the proposed residual risk review and our determination that no revisions were warranted under CAA section 112(f)(2) for either source category. Generally, the comments that did not support the proposed determinations that the risks are acceptable and that the existing standards provide an ample margin of safety also asserted that changes to the underlying risk assessment methodology were needed. For example, one commenter stated that the EPA should lower the acceptability benchmark and not assume that risks below 100-in-1 million are inherently acceptable, include emissions from outside of the source categories in question in the risk assessment, and assume that pollutants with noncancer health risks have no safe level of exposure. Generally, the comments that were supportive of the proposed determinations of the residual risk review agreed with our underlying risk assessment methodology and data inputs and asked for the rule to be finalized as soon as possible to provide regulatory certainty. After review of all the comments received, we decided not to make any changes to the residual risk review. The comments and our specific responses can be found in the document, Summary of Public Comments and Responses on Proposed Rule (84 FR 22642, May 17, 2019), available in the dockets for these actions (Docket ID Nos. EPA-HQ-OAR-2016-0447 and EPA-HQ-OAR-2016-0449).

4. What is the rationale for our final approach and final decisions for the risk review?

As noted in our proposal, the EPA sets standards under CAA section 112(f)(2) using “a two-step standard-setting approach, with an analytical first step to determine an `acceptable risk' that considers all health information, including risk estimation uncertainty, and includes a presumptive limit on the MIR of approximately 1-in-10 thousand (see 54 FR 38045, September 14, 1989).” We weigh all health risk factors in our risk acceptability determination, including the cancer MIR, cancer incidence, the maximum chronic noncancer TOSHI, the maximum acute noncancer HQ, the extent of noncancer risks, the distribution of cancer and noncancer risks in the exposed population, and the risk estimation uncertainties.

Since proposal, neither the risk assessment nor our determinations regarding risk acceptability, ample margin of safety, or adverse environmental effects have changed. For the reasons explained in the proposed rule, we determine that the risks from the Boat Manufacturing and Reinforced Plastic Composites Production source categories are acceptable, and that the current standards provide an ample margin of safety to protect public health and prevent an adverse environmental effect. Therefore, we are not revising either subpart to require additional controls pursuant to CAA section 112(f)(2) based on the residual risk review, and we are readopting the existing standards under CAA section 112(f)(2).

B. Technology Reviews for the Boat Manufacturing and Reinforced Plastic Composites Production Source Categories

1. What did we propose pursuant to CAA section 112(d)(6)?

Based on our review, the EPA did not identify any developments in practices, processes, or control technologies for the Boat Manufacturing and Reinforced Plastic Composites Production source categories, and, therefore, we did not propose any changes to the standards under CAA section 112(d)(6). Brief summaries of the EPA's findings in conducting the technology review of Boat Manufacturing and Reinforced Plastic Composites Production source categories were included in the preamble to the proposed rule (84 FR 22642, 22660, 22667, May 17, 2019), and detailed discussions of the EPA's technology review and findings were included in the memorandum, Technology Review for Boat Manufacturing and Reinforced Plastic Composites Production Source Category, June 1, 2018, which can be found in the dockets for both source categories (Docket ID Nos. EPA-OAR-HQ-2016-0447 and EPA-HQ-OAR-2016-0449).

2. How did the technology reviews change?

The EPA is making no changes to the conclusions of the technology review and is finalizing the results of the technology reviews for the Boat Manufacturing and Reinforced Plastic Composites Production source categories as proposed.

3. What key comments did we receive on the technology review, and what are our responses?

The EPA received one comment on the proposed technology review for the Boat Manufacturing source category. This commenter supported our proposed determination that no revisions were warranted under CAA section 112(d)(6) for the Boat Manufacturing source category. No comments were received on the technology review for the Reinforced Plastic Composites source category.

4. What is the rationale for our final approach for the technology review?

As we received no adverse comments on our proposed technology reviews or the proposed determinations based on those reviews, we are finalizing the reviews as proposed and making no changes to the standards pursuant to CAA section 112(d)(6). The rationale for and results of our technology reviews are explained in the preamble to the proposed rules (84 FR 22660 and 22667, May 17, 2019).

C. SSM Provisions

1. What did we propose for SSM?

In the May 17, 2019, action, the EPA proposed amendments to the Boat Manufacturing NESHAP and the Reinforced Plastic Composites Production NESHAP to remove and revise provisions related to SSM that are not consistent with the requirement that the standards apply at all times. More information concerning the proposed amendments for the elimination of SSM exemption provisions is in the preamble to the proposed rules (84 FR 22660 and 22668, May 17, 2019).

2. What changed since proposal?

The EPA is finalizing the SSM provisions as proposed with no changes (84 FR 22660 and 22668, May 17, 2019).

3. What key comments did we receive on the SSM provisions and what are our responses?

We received several comments in support of the proposed SSM amendments for the Boat Manufacturing and Reinforced Plastic Composites source categories. One commenter also stated that the proposed amendments will have no impact on the Boat Manufacturing industry.

4. What is the rationale for our final approach for the SSM provisions?

For the reasons explained in the proposed rule and after evaluation of the comments on the proposed amendments to the SSM provisions for the Boat Manufacturing NESHAP and the Reinforced Plastic Composites Production NESHAP, we are finalizing the proposed revisions related to SSM that are inconsistent with the requirement that the standards apply at all times. More information concerning the proposed amendments to the SSM provisions is in the preamble for each of the proposed rules (84 FR 22660 and 22668, May 17, 2019).

D. Electronic Reporting Provisions

1. What did we propose?

In the May 17, 2019, action, we proposed that owners and operators of facilities subject to the Boat Manufacturing NESHAP and the Reinforced Plastic Composites NESHAP submit electronic copies of performance test and performance evaluation results and semiannual reports through the EPA's CDX, using the CEDRI Interface. A description of the electronic submission process is provided in the memorandum, Electronic Reporting Requirements for New Source Performance Standards (NSPS) and National Emission Standards for Hazardous Air Pollutants (NESHAP), August 8, 2018, in the dockets for Boat Manufacturing (Docket ID No. EPA-OAR-HQ-2016-0447) and Reinforced Plastic Composites (Docket ID No. EPA-HQ-OAR-2016-0449). The proposed rule requirement would replace the current rule requirement to submit these notifications and reports to the Administrator at the appropriate address listed in 40 CFR 63.13. The proposed rule requirement would not affect submittals required by state air agencies. The proposed compliance schedule language in 40 CFR 63.5765(c) and 63.5912(c) for submission of semiannual compliance reports gives facilities 181 days after the final rule is published to begin electronic reporting or 1 year after the 40 CFR part 63, subparts VVVV and WWWW, semiannual compliance report template for both source categories is available in CEDRI, whichever is later.

2. What changed since proposal?

The EPA is finalizing the electronic reporting provisions as proposed with no changes (84 FR 22662 and 22669, May 17, 2019).

3. What key comments did we receive on the electronic reporting provisions and what are our responses?

The EPA received several comments that were generally supportive of the proposed electronic reporting requirements. One commenter stated that the proposed electronic reporting requirements will reduce “regulatory burden imposed on this sector by helping to minimize waste of resources and streamline operations.”

4. What is the rationale for our final approach for the electronic reporting provisions?

For the reasons explained in the proposed rule and after evaluation of the comments on the proposed amendments, the EPA is requiring owners and operators of facilities subject to the Boat Manufacturing NESHAP and the Reinforced Plastic Composites Production NESHAP to submit electronic copies of performance test and performance evaluation results and semiannual reports through the EPA's CDX, using CEDRI. The rationale for the proposed amendments to the electronic reporting provisions is in the preamble to the proposed rule (84 FR 22662 and 22669, May 17, 2019). This rationale also supports our determination to finalize these requirements as proposed.

E. Work Practice Standards for Controlled-Spray Training

1. What did we propose for a controlled-spray operator training program?

The EPA requested comment on the potential costs and benefits of revising the Boat Manufacturing NESHAP and/or the Reinforced Plastic Composites Production NESHAP to include a controlled-spray training program for operations where styrene-containing resins and gel coats are sprayed onto an open mold. We specifically asked for feedback on whether this practice is widely used in industry, whether significant HAP reductions can be achieved industry-wide and whether HAP reductions could be applicable to all open mold production operations. A more detailed description of the potential revisions and amendatory rule text were provided in the dockets for both rulemakings (Docket ID Item Nos. EPA-OAR-HQ-2016-0447-0079 and EPA-OAR-HQ-2016-0049-0044).

2. What changed since proposal?

For reasons described below, the EPA has decided not to add provisions requiring a controlled-spray operator training program for styrene-containing resins and gel coats sprayed onto an open mold.

3. What key comments did we receive on the work practice standards and what are our responses?

Comment: The EPA received mixed comments on the inclusion of a work practice standard for controlled-spray operator training. Some commenters argued that EPA was obligated to include a training program, while other commenters objected to the inclusion of such a program. One commenter argued that EPA must adopt controlled spray training as a technological development based on the statutory requirements of CAA section 112(d)(6). A commenter also argued that the program must be included in the final rule as a measure for reducing emissions and therefore reducing health risk to satisfy the `ample margin of safety' requirements under CAA section 112(f)(2). Other commenters objected to the inclusion of the controlled spray-training program, arguing that it would achieve no additional environmental benefit and would impose unwarranted regulatory burden. Some commenters also asserted that requirements to weigh overspray of resins and gel coats does not provide any additional environmental benefit and is overly burdensome.

Response: The EPA has decided not to add a work practice for controlled spray operator training to either the Boat Manufacturing NESHAP and/or the Reinforced Plastic Composites Production NESHAP. The EPA acknowledges that a controlled-spray training could be considered a potential development in practices. Even if the agency were to conclude it is a development, however, no changes to these NESHAP would be warranted. We do not have enough information at this time to conclude that a controlled-spray program implemented for boat manufacturing and reinforced plastic composites production facilities would result in environmental benefits and we cannot quantify the burden on affected facilities. The EPA did not receive any additional information regarding potential environmental benefits or costs associated with such a program for these source categories during the comment period. For these reasons, the EPA has concluded, based on the available information, that even if the spray operator training program were found to be a development, changes to the standards would not be required under CAA section 112(d)(6).

Under the ample margin of safety analysis, the EPA analyzes whether there are any cost-effective controls or other measures that would reduce emissions further and would be necessary to provide an ample margin of safety to protect public health. The EPA is not able, based on the information currently available to it, to conclude that the controlled-spray operator training program would be cost effective for either source category or that it would have any environmental benefit. As such, the EPA has concluded, based on the available information on the cost and feasibility of the program and considering all of the health risks and other health information considered in the risk acceptability determination, that the program is not needed to provide an ample margin of safety.

4. What is the rationale for our final decision with regard to the work practice standards?

The EPA could not determine that requiring a work practice standard for controlled-spray operator training in the NESHAP for the Boat Manufacturing and Reinforced Plastic Composites Production source categories would provide an environmental benefit, and, therefore, could not determine if such programs would be cost effective. The EPA did not receive any information regarding the potential costs of revising the Boat Manufacturing NESHAP and/or the Reinforced Plastic Composites Production NESHAP to include controlled-spray training as a work practice standard during the comment period for both regulatory actions. Given this uncertainty for program costs and benefits, we have also determined that the controlled-spray operator training program is not needed to provide an ample margin of safety.

For these reasons, the EPA has decided not to add work practice standards for controlled-spray operator training to either the Boat Manufacturing NESHAP and/or the Reinforced Plastic Composites Production NESHAP.

V. Summary of Cost, Environmental, and Economic Impacts and Additional Analyses Conducted

A. What are the affected facilities?

The EPA estimates that there are 93 boat manufacturing facilities that are subject to the Boat Manufacturing NESHAP affected by the proposed amendments to 40 CFR part 63, subpart VVVV, and 448 reinforced plastic composites production facilities subject to the Reinforced Plastic Composites Production NESHAP, affected by the proposed amendments to 40 CFR part 63, subpart WWWW. The basis of our estimates of affected facilities are provided in the memorandum, Emissions Data for the National Emission Standards for Hazardous Air Pollutants for Boat Manufacturing and the National Emission Standards for Hazardous Air Pollutants for Reinforced Plastic Composites Production, which is available in the respective dockets for this action. We are not currently aware of any planned or potential new or reconstructed manufacturing facilities in either of the source categories.

B. What are the air quality impacts?

All major sources in the two source categories would be required to comply with the relevant emission standards at all times without the SSM exemption. We were unable to quantify the specific emissions reductions associated with eliminating the SSM exemption. However, eliminating the SSM exemption has the potential to reduce emissions by requiring facilities to meet the applicable standard during SSM periods.

C. What are the cost impacts?

The one-time cost associated with reviewing the revised rules and becoming familiar with the electronic reporting requirements is estimated to be $446,448 (2016$); the one-time cost is composed of $75,629 for the Boat Manufacturing source category (93 facilities), and $370,819 for the Reinforced Plastic Composites Production source category (448 facilities). The total cost per facility in the Boat Manufacturing source category is estimated to be $399 per facility to review the final rule requirements and $414 per facility to become familiar with the electronic reporting requirements. The total cost per facility in the Reinforced Plastic Composites Production source category is estimated to be $414 per facility to review the final rule requirements and $414 per facility to become familiar with the electronic reporting requirements. All other costs associated with notifications, reporting, and recordkeeping are assumed to be unchanged because the facilities in each source category are currently required to comply with notification, reporting, and recordkeeping requirements, and will continue to be required to comply with those requirements. The number of personnel-hours required to develop the materials in support of reports required by the NESHAP remain unchanged.

D. What are the economic impacts?

The cost per facility for all of the facilities in both source categories to review the proposed rule requirements and to become familiar with the electronic reporting requirements are less than 1 percent of annual sales revenues. These costs are not expected to result in a significant market impact, regardless of whether they are passed on to the purchaser or absorbed by the firms.

In addition, the EPA prepared a small business screening assessment to determine whether any of the identified affected entities are small entities, as defined by the U.S. Small Business Administration. As result of our small business screening, we have identified 73 out of the 93 facilities in the Boat Manufacturing NESHAP as small entities, while 309 out of the 448 facilities in the Reinforced Plastic Composites Production NESHAP are small entities. For both industries, the costs associated with becoming familiar with the proposed rule requirements and to become familiar with the electronic reporting requirements are less than 1 percent of their annual sales revenues. Therefore, there are no significant economic impacts on a substantial number of small entities from these proposed amendments.

E. What are the benefits?

The EPA does not anticipate reductions in HAP emissions as a result of the proposed amendments to the Boat Manufacturing NESHAP or the Reinforced Plastic Composites Production NESHAP. Because these proposed amendments are not considered economically significant, as defined by Executive Order 12866, and because no emission reductions were estimated, we did not estimate any health benefits from reducing emissions.

F. What analysis of environmental justice did we conduct?

The EPA performed a demographic analysis for each source category, which is an assessment of risks to individual demographic groups, of the population close to the facilities (within 50 kilometers (km) and within 5 km). In our analysis, we evaluated the distribution of HAP-related cancer risks and noncancer hazards from the Boat Manufacturing source category and the Reinforced Plastic Composites Production source category across different social, demographic, and economic groups within the populations living near operations identified as having the highest risks.

Results of the demographic analysis performed for the Boat Manufacturing source category indicate that, for seven of the 11 demographic groups, Hispanic or Latino, minority, people living below the poverty level, linguistically isolated people, adults without a high school diploma, adults 65 years of age or older, and African Americans that reside within 5 km of facilities in the source category is greater than the corresponding national percentage for the same demographic groups. When examining the risk levels of those exposed to emissions from boat manufacturing facilities, we find that no one is exposed to a cancer risk at or above 1-in-1 million or to a chronic noncancer TOSHI greater than 1, and that risks are acceptable for all populations.

The results of the Reinforced Plastic Composites Production source category demographic analysis indicate that populations residing within 50 km of facilities in the source category for three of the 11 demographic groups; minority populations, people living below the poverty level, ages 0 to 17, and adults without a high school diploma is greater than the corresponding national percentage for the same demographic groups. However, emissions from the source category expose approximately 1,600 people to a cancer risk at or above 1-in-1 million, but no cancer risk greater than 4-in-1 million (Docket ID Item No. EPA-HQ-OAR-2016-0449-0228). When examining the demographics for those exposed to cancer risks greater than 1-in-1 million from reinforced plastic composites production facilities, we find that four of the 10 demographic groups; African American, ages 0 to 17, over 25 without a high school diploma, and people below the poverty level are exposed to a cancer risk at or above 1-in-1 million. For chronic noncancer risks, no one is exposed to a chronic noncancer TOSHI greater than 1. A review of all risks from this source category is considered acceptable for all populations.

G. What analysis of children's environmental health did we conduct?

The EPA does not believe the environmental health or safety risks addressed by this action present a disproportionate risk to children. This action's health and risk assessments are contained in sections IIIA. and IV.A and B of the proposal for this rule (84 FR 22684 through 22660, May 17, 2019) and are further documented in the Residual Risk Assessment for the Boat Manufacturing Source Category in Support of the 2018 Risk and Technology Review Proposed Rule, and the Residual Risk Assessment for the Surface Coating of Reinforced Plastic Composites Production Source Category in Support of the 2018 Risk and Technology Review Proposed Rule (Docket ID Item No. EPA-HQ-OAR-2016-0447-0035 and Docket ID Item No. EPA-HQ-OAR-2016-0449-0014).

VI. Statutory and Executive Order Reviews

Additional information about these statutes and Executive orders can be found at https://www.epa.gov/laws-regulations/laws-and-executive-orders.

A. Executive Orders 12866: Regulatory Planning and Review and Executive Order 13563: Improving Regulation and Regulatory Review

This action is not a significant regulatory action and was, therefore, not submitted to the Office of Management and Budget (OMB) for review.

B. Executive Order 13771: Reducing Regulations and Controlling Regulatory Costs

This action is not an Executive Order 13771 regulatory action because this action is not significant under Executive Order 12866.

C. Paperwork Reduction Act (PRA)

The information collection activities in this rule have been submitted for approval to OMB under the PRA. The Information Collection Request (ICR) documents that the EPA prepared has been assigned EPA ICR number 1966.09 for the Boat Manufacturing source category and 1976.09 for the Reinforced Plastic Composites Production source category. You can find a copy of these ICR documents in the dockets for these rules, and they are briefly summarized here. The information collection requirements are not enforceable until OMB approves them. A brief summary of the information collection requirements for Boat Manufacturing and the Reinforced Plastic Composites Production categories is provided in sections VI.C.1 and VI.C.2 of this preamble.

1. Boat Manufacturing

We are finalizing changes to the recordkeeping and reporting requirements associated with 40 CFR part 63, subpart VVVV, in the form of eliminating the SSM plan and reporting requirements; including reporting requirements for deviations in the semiannual report; and including the requirement for electronic submittal of reports. In addition, the number of facilities subject to the standards changed since the original ICR was finalized.

Respondents/affected entities: The respondents to the recordkeeping and reporting requirements are owners or operators of boat manufacturing facilities subject to 40 CFR part 63, subpart VVVV.

Respondent's obligation to respond: Mandatory (40 CFR part 63, subpart VVVV).

Estimated number of respondents: 93 facilities.

Frequency of response: The frequency of responses varies depending on the burden item. Responses include one-time review of rule amendments, reports of periodic performance tests, and semiannual compliance reports.

Total estimated burden: The annual recordkeeping and reporting burden for responding facilities to comply with all the requirements in the NESHAP, averaged over the 3 years of this ICR, is estimated to be 7,914 hours (per year). Burden is defined at 5 CFR 1320.3(b).

Total estimated cost: The annual recordkeeping and reporting cost for responding facilities to comply with all the requirements in the NESHAP, averaged over the 3 years of this ICR, is estimated to be $816,500 (rounded, per year). There are no estimated capital and operation and maintenance (O&M) costs.

2. Reinforced Plastic Composites Production

We are finalizing changes to the recordkeeping and reporting requirements associated with 40 CFR part 63, subpart WWWW, in the form of eliminating the SSM plan and reporting requirements; including reporting requirements for deviations in the semiannual report; and including the requirement for electronic submittal of reports. In addition, the number of facilities subject to the standards changed since the original ICR was finalized.

Respondents/affected entities: The respondents to the recordkeeping and reporting requirements are owners or operators of reinforced plastic composites production facilities subject to 40 CFR part 63, subpart WWWW.

Respondent's obligation to respond: Mandatory (40 CFR part 63, subpart WWWW).

Estimated number of respondents: 448 facilities.

Frequency of response: The frequency of responses varies depending on the burden item. Responses include one-time review of rule amendments, reports of periodic performance tests, and semiannual compliance reports.

Total estimated burden: The annual recordkeeping and reporting burden for responding facilities to comply with all of the requirements in the NESHAP, averaged over the 3 years of this ICR, is estimated to be 38,125 hours (per year). Burden is defined at 5 CFR 1320.3(b).

Total estimated cost: The annual recordkeeping and reporting cost for responding facilities to comply with all of the requirements in the NESHAP, averaged over the 3 years of this ICR, is estimated to be $3,933,400 (rounded, per year). There are no estimated capital and O&M costs.

D. Regulatory Flexibility Act (RFA)

I certify that this action will not have a significant economic impact on a substantial number of small entities under the RFA. The small entities subject to the requirements of this action include small businesses engaged in either the Boat Manufacturing or Reinforced Plastic Composites Production source categories. The Agency has determined that 73 boat manufacturing facilities and 309 reinforced plastic composites production facilities are small entities, and that these small entities may experience an impact of less than 1 percent of annual sales. Additional discussion of the cost impacts can be found in section V.D of this preamble.

E. Unfunded Mandates Reform Act (UMRA)

This action does not contain an unfunded mandate of $100 million or more as described in UMRA, 2 U.S.C. 1531-1538, and does not significantly or uniquely affect small governments. The action imposes no enforceable duty on any state, local, or tribal governments or the private sector.

F. Executive Order 13132: Federalism

This action does not have federalism implications. It will not have substantial direct effects on the states, on the relationship between the National Government and the states, or on the distribution of power and responsibilities among the various levels of government.

G. Executive Order 13175: Consultation and Coordination With Indian Tribal Governments

This action does not have tribal implications as specified in Executive Order 13175. No tribal facilities are known to be engaged in the Boat Manufacturing or Reinforced Plastic Composites Production source categories and would not be affected by this action. Thus, Executive Order 13175 does not apply to this action.

H. Executive Order 13045: Protection of Children From Environmental Health Risks and Safety Risks

This action is not subject to Executive Order 13045 because it is not economically significant as defined in Executive Order 12866, and because the EPA does not believe the environmental health or safety risks addressed by this action present a disproportionate risk to children. This action's health and risk assessments are contained in sections III.A and IV.A and B of the proposal for this rule (84 FR 22684 through 22660, May 17, 2019).

I. Executive Order 13211: Actions Concerning Regulations That Significantly Affect Energy Supply, Distribution, or Use

This action is not subject to Executive Order 13211, because it is not a significant regulatory action under Executive Order 12866.

J. National Technology Transfer and Advancement Act (NTTAA)

This rulemaking does not involve technical standards.

K. Executive Order 12898: Federal Actions To Address Environmental Justice in Minority Populations and Low-Income Populations

The EPA has determined that this action does not have disproportionately high and adverse human health or environmental effects on minority populations, low-income populations, and/or indigenous peoples, as specified in Executive Order 12898 (59 FR 7629, February 16, 1994). The documentation for this decision is contained in sections IV.A, IV.B, IV.F, and IV.G of the proposal preamble (84 FR 22658 through 22667, May 17, 2019). For both source categories, the risks were found to be acceptable for all populations, including minority pollutions, low-income populations, and/or indigenous people.

L. Congressional Review Act (CRA)

This action is subject to the CRA, and the EPA will submit a rule report to each House of the Congress and to the Comptroller General of the United States. This action is not a “major rule” as defined by 5 U.S.C. 804(2).

List of Subjects in 40 CFR Part 63

Environmental protection, Administrative practice and procedures, Air pollution control, Hazardous substances, Intergovernmental relations, Reporting and recordkeeping requirements.

Dated: February 25, 2020.
Andrew R. Wheeler,
Administrator.

For the reasons set forth in the preamble, 40 CFR part 63 is amended as follows:

PART 63—NATIONAL EMISSION STANDARDS FOR HAZARDOUS AIR POLLUTANTS FOR SOURCE CATEGORIES

1. The authority citation for part 63 continues to read as follows:

Authority: 42 U.S.C. 7401 et seq.

Subpart VVVV—National Emission Standards for Hazardous Air Pollutants for Boat Manufacturing

§ 63.5764 [Amended]

2. Section 63.5764 is amended by removing paragraph (e).

3. Section 63.5765 is added to read as follows:

§ 63.5765 How do I submit my reports?

(a) Within 60 days after the date of completing each performance test required by this subpart, you must submit the results of the performance test following the procedures specified in paragraphs (a)(1) through (3) of this section.

(1) Data collected using test methods supported by the EPA's Electronic Reporting Tool (ERT) as listed on the EPA's ERT website (https://www.epa.gov/electronic-reporting-air-emissions/electronic-reporting-tool-ert) at the time of the test. Submit the results of the performance test to the EPA via the Compliance and Emissions Data Reporting Interface (CEDRI), which can be accessed through the EPA's Central Data Exchange (CDX) (https://cdx.epa.gov/). The data must be submitted in a file format generated through the use of the EPA's ERT. Alternatively, you may submit an electronic file consistent with the extensible markup language (XML) schema listed on the EPA's ERT website.

(2) Data collected using test methods that are not supported by the EPA's ERT as listed on the EPA's ERT website at the time of the test. The results of the performance test must be included as an attachment in the ERT or an alternate electronic file consistent with the XML schema listed on the EPA's ERT website. Submit the ERT generated package or alternative file to the EPA via CEDRI.

(3) Confidential business information (CBI). If you claim some of the information submitted under paragraph (a)(1) of this section is CBI, you must submit a complete file, including information claimed to be CBI, to the EPA. The file must be generated through the use of the EPA's ERT or an alternate electronic file consistent with the XML schema listed on the EPA's ERT website. Submit the file on a compact disc, flash drive, or other commonly used electronic storage medium and clearly mark the medium as CBI. Mail the electronic medium to U.S. EPA/OAQPS/CORE CBI Office, Attention: Group Leader, Measurement Policy Group, MD C404-02, 4930 Old Page Rd., Durham, NC 27703. The same file with the CBI omitted must be submitted to the EPA via the EPA's CDX as described in paragraph (a)(1) of this section.

(b) Within 60 days after the date of completing each continuous monitoring system (CMS) performance evaluation as defined in § 63.2, you must submit the results of the performance evaluation following the procedures specified in paragraphs (b)(1) through (3) of this section.

(1) Performance evaluations of CMS measuring relative accuracy test audit (RATA) pollutants that are supported by the EPA's ERT as listed on the EPA's ERT website at the time of the evaluation. Submit the results of the performance evaluation to the EPA via CEDRI, which can be accessed through the EPA's CDX. The data must be submitted in a file format generated through the use of the EPA's ERT. Alternatively, you may submit an electronic file consistent with the XML schema listed on the EPA's ERT website.

(2) Performance evaluations of CMS measuring RATA pollutants that are not supported by the EPA's ERT as listed on the EPA's ERT website at the time of the evaluation. The results of the performance evaluation must be included as an attachment in the ERT or an alternate electronic file consistent with the XML schema listed on the EPA's ERT website. Submit the ERT generated package or alternative file to the EPA via CEDRI.

(3) Confidential business information. If you claim some of the information submitted under paragraph (a)(1) of this section is CBI, you must submit a complete file, including information claimed to be CBI, to the EPA. The file must be generated through the use of the EPA's ERT or an alternate electronic file consistent with the XML schema listed on the EPA's ERT website. Submit the file on a compact disc, flash drive, or other commonly used electronic storage medium and clearly mark the medium as CBI. Mail the electronic medium to U.S. EPA/OAQPS/CORE CBI Office, Attention: Group Leader, Measurement Policy Group, MD C404-02, 4930 Old Page Rd., Durham, NC 27703. The same file with the CBI omitted must be submitted to the EPA via the EPA's CDX as described in paragraph (a)(1) of this section.

(c) For sources that commence construction or reconstruction before or on May 17, 2019, you must submit to the Administrator semiannual compliance reports of the information required in § 63.5764(c) and (d) beginning on September 16, 2020. For sources that commence construction or reconstruction after May 17, 2019, you must submit to the Administrator semiannual compliance reports of the information required in § 63.5764(c) and (d) beginning on March 20, 2020, or upon startup, whichever is later.

(d) If you are required to submit reports following the procedure specified in this paragraph (d), beginning on September 16, 2020, you must submit all subsequent reports to the EPA via CEDRI, which can be accessed through the EPA's CDX (https://cdx.epa.gov/). You must use the appropriate electronic report template on the CEDRI website (https://www.epa.gov/electronic-reporting-air-emissions/compliance-and-emissions-data-reporting-interface-cedri) for this subpart. The report must be submitted by the deadline specified in this subpart, regardless of the method in which the report is submitted. If you claim some of the information required to be submitted via CEDRI is CBI, submit a complete report, including information claimed to be CBI, to the EPA. The report must be generated using the appropriate form on the CEDRI website or an alternate electronic file consistent with the XML schema listed on the CEDRI website. Submit the file on a compact disc, flash drive, or other commonly used electronic storage medium and clearly mark the medium as CBI. Mail the electronic medium to U.S. EPA/OAQPS/CORE CBI Office, Attention: Group Leader, Measurement Policy Group, MD C404-02, 4930 Old Page Rd., Durham, NC 27703. The same file with the CBI omitted must be submitted to the EPA via the EPA's CDX as described earlier in this paragraph (d).

(e) If you are required to electronically submit a report through CEDRI in the EPA's CDX, you may assert a claim of EPA system outage for failure to timely comply with the reporting requirement. To assert a claim of EPA system outage, you must meet the requirements outlined in paragraphs (e)(1) through (7) of this section.

(1) You must have been or will be precluded from accessing CEDRI and submitting a required report within the time prescribed due to an outage of either the EPA's CEDRI or CDX systems.

(2) The outage must have occurred within the period of time beginning 5 business days prior to the date that the submission is due.

(3) The outage may be planned or unplanned.

(4) You must submit notification to the Administrator in writing as soon as possible following the date you first knew, or through due diligence should have known, that the event may cause or has caused a delay in reporting.

(5) You must provide to the Administrator a written description identifying:

(i) The date(s) and time(s) when CDX or CEDRI was accessed and the system was unavailable;

(ii) A rationale for attributing the delay in reporting beyond the regulatory deadline to EPA system outage;

(iii) Measures taken or to be taken to minimize the delay in reporting; and

(iv) The date by which you propose to report, or if you have already met the reporting requirement at the time of the notification, the date you reported.

(6) The decision to accept the claim of EPA system outage and allow an extension to the reporting deadline is solely within the discretion of the Administrator.

(7) In any circumstance, the report must be submitted electronically as soon as possible after the outage is resolved.

(f) If you are required to electronically submit a report through CEDRI in the EPA's CDX, you may assert a claim of force majeure for failure to timely comply with the reporting requirement. To assert a claim of force majeure, you must meet the requirements outlined in paragraphs (f)(1) through (5) of this section.

(1) You may submit a claim if a force majeure event is about to occur, occurs, or has occurred or there are lingering effects from such an event within the period of time beginning five business days prior to the date the submission is due. For the purposes of this section, a force majeure event is defined as an event that will be or has been caused by circumstances beyond the control of the affected facility, its contractors, or any entity controlled by the affected facility that prevents you from complying with the requirement to submit a report electronically within the time period prescribed. Examples of such events are acts of nature (e.g., hurricanes, earthquakes, or floods), acts of war or terrorism, or equipment failure or safety hazard beyond the control of the affected facility (e.g., large scale power outages).

(2) You must submit notification to the Administrator in writing as soon as possible following the date you first knew, or through due diligence should have known, that the event may cause or has caused a delay in reporting.

(3) You must provide to the Administrator:

(i) A written description of the force majeure event;

(ii) A rationale for attributing the delay in reporting beyond the regulatory deadline to the force majeure event;

(iii) A description of measures taken or to be taken to minimize the delay in reporting; and

(iv) The date by which you propose to report, or if you have already met the reporting requirement at the time of the notification, the date you reported.

(4) The decision to accept the claim of force majeure and allow an extension to the reporting deadline is solely within the discretion of the Administrator.

(5) In any circumstance, the reporting must occur as soon as possible after the force majeure event occurs.

4. Section 63.5767 is amended by revising paragraph (d) to read as follows:

§ 63.5767 What records must I keep?

* * * * *

(d) If your facility has an add-on control device, you must keep the records of any failures to meet the applicable standards, including the date, time, and duration of the failure; a list of the affected add-on control device and actions taken to minimize emissions, an estimate of the quantity of each regulated pollutant emitted over any emission limit, and a description of the method used to estimate the emissions; control device performance tests; and continuous monitoring system performance evaluations.

5. Section 63.5770 is amended by adding paragraph (e) to read as follows:

§ 63.5770 In what form and for how long must I keep my records?

* * * * *

(e) Any records required to be maintained by this part that are submitted electronically via the EPA's CEDRI may be maintained in electronic format. This ability to maintain electronic copies does not affect the requirement for facilities to make records, data, and reports available upon request to a delegated air agency or the EPA as part of an on-site compliance evaluation.

6. Section 63.5779 is amended by:

a. Removing the definition for “Deviation”; and

b. Adding definitions for “Deviation after”, “Deviation before”, “Shutdown”, and “Startup” in alphabetical order.

The additions read as follows:

§ 63.5779 What definitions apply to this subpart?

* * * * *

Deviation after September 16, 2020, means any instance in which an affected source subject to this subpart, or an owner or operator of such a source:

(1) Fails to meet any requirement or obligation established by this subpart, including, but not limited to, any emission limit, operating limit, or work practice standard; or

(2) Fails to meet any term or condition that is adopted to implement an applicable requirement in this subpart and that is included in the operating permit for any affected source required to obtain such a permit.

Deviation before September 17, 2020 means any instance in which an affected source subject to this subpart, or an owner or operator of such a source:

(1) Fails to meet any requirement or obligation established by this subpart, including, but not limited to, any emission limit, operating limit, or work practice standard; or

(2) Fails to meet any term or condition that is adopted to implement an applicable requirement in this subpart and that is included in the operating permit for any affected source required to obtain such a permit; or

(3) Fails to meet any emission limit, or operating limit, or work practice standard in this subpart during startup, shutdown, or malfunction, regardless of whether or not such failure is permitted by this subpart.

* * * * *

Shutdown after September 16, 2020, means the cessation of operation of the add-on control devices.

* * * * *

Startup after September 17, 2020, means the setting in operation of the add-on control devices.

* * * * *

7. Table 8 to subpart VVVV of part 63 is revised to read as follows:

Table 8 to Subpart VVVV of Part 63—Applicability of General Provisions (40 CFR part 63, subpart A) to Subpart VVVV

As specified in § 63.5773, you must comply with the applicable requirements of the General Provisions according to the following table:

Citation | Requirement | Applies to subpart VVVV | Explanation
§ 63.1(a) | General Applicability | Yes |
§ 63.1(b) | Initial Applicability Determination | Yes |
§ 63.1(c)(1) | Applicability After Standard Established | Yes |
§ 63.1(c)(2) |  | Yes | Area sources are not regulated by subpart VVVV.
§ 63.1(c)(3) |  | No | [Reserved].
§ 63.1(c)(4)-(5) |  | Yes |
§ 63.1(d) |  | No | [Reserved].
§ 63.1(e) | Applicability of Permit Program | Yes |
§ 63.2 | Definitions | Yes | Additional definitions are found in § 63.5779.
§ 63.3 | Units and Abbreviations | Yes |
§ 63.4(a) | Prohibited Activities | Yes |
§ 63.4(b)-(c) | Circumvention/Severability | Yes |
§ 63.5(a) | Construction/Reconstruction | Yes |
§ 63.5(b) | Requirements for Existing, Newly Constructed, and Reconstructed Sources | Yes |
§ 63.5(c) |  | No | [Reserved].
§ 63.5(d) | Application for Approval of Construction/Reconstruction | Yes |
§ 63.5(e) | Approval of Construction/Reconstruction | Yes |
§ 63.5(f) | Approval of Construction/Reconstruction Based on prior State Review | Yes |
§ 63.6(a) | Compliance with Standards and Maintenance Requirements—Applicability | Yes |
§ 63.6(b) | Compliance Dates for New and Reconstructed Sources | Yes | § 63.695 specifies compliance dates, including the compliance date for new area sources that become major sources after the effective date of the rule.
§ 63.6(c) | Compliance Dates for Existing Sources | Yes | § 63.5695 specifies compliance dates, including the compliance date for existing area sources that become major sources after the effective date of the rule.
§ 63.6(d) |  | No | [Reserved].
§ 63.6(e)(1)-(2) | Operation and Maintenance Requirements | No | Operating requirements for open molding operations with add-on controls are specified in § 63.5725.
§ 63.6(e)(3) | Startup, Shut Down, and Malfunction Plans | No | Only sources with add-on controls must complete startup, shutdown, and malfunction plans.
§ 63.6(f) | Compliance with Nonopacity Emission Standards | Yes |
§ 63.6(g) | Use of an Alternative Nonopacity Emission Standard | Yes |
§ 63.6(h) | Compliance with Opacity/Visible Emissions Standards | No | Subpart VVVV does not specify opacity or visible emission standards.
§ 63.6(i) | Extension of Compliance with Emission Standards | Yes |
§ 63.6(j) | Exemption from Compliance with Emission Standards | Yes |
§ 63.7(a)(1) | Performance Test Requirements | Yes |
§ 63.7(a)(2) | Dates for performance tests | No | § 63.5716 specifies performance test dates.
§ 63.7(a)(3) | Performance testing at other times | Yes |
§ 63.7(b)-(h) | Other performance testing requirements | Yes |
§ 63.8(a)(1)-(2) | Monitoring Requirements—Applicability | Yes | All of § 63.8 applies only to sources with add-on controls. Additional monitoring requirements for sources with add-on controls are found in § 63.5725.
§ 63.8(a)(3) |  | No | [Reserved].
§ 63.8(a)(4) |  | No | Subpart VVVV does not refer directly or indirectly to § 63.11.
§ 63.8(b)(1) | Conduct of Monitoring | Yes |
§ 63.8(b)(2)-(3) | Multiple Effluents and Multiple CMS | Yes | Applies to sources that use a CMS on the control device stack.
§ 63.8(c)(1)(i) and (iii) | CMS Operation and Maintenance | No | References to startup, shutdown, malfunction are not applicable.
§ 63.8(c)(1)-(4) | CMS Operation and Maintenance | Yes | Except those provisions in § 63.8(c)(1)(i) and (iii) as noted above.
§ 63.8(c)(5) | Continuous Opacity Monitoring Systems (COMS) | No | Subpart VVVV does not have opacity or visible emission standards.
§ 63.8(c)(6)-(8) | CMS Calibration Checks and Out-of-Control Periods | Yes |
§ 63.8(d) | Quality Control Program | Yes | Except those provisions of § 63.8(d)(3) regarding a startup, shutdown, malfunction plan as noted below
§ 63.8(d)(3) | Quality Control Program | No | No requirement for a startup, shutdown, malfunction plan.
§ 63.8(e) | CMS Performance Evaluation | Yes |
§ 63.8(f)(1)-(5) | Use of an Alternative Monitoring Method | Yes |
§ 63.8(f)(6) | Alternative to Relative Accuracy Test | Yes | Applies only to sources that use continuous emission monitoring systems (CEMS).
§ 63.8(g) | Data Reduction | Yes |
§ 63.9(a) | Notification Requirements—Applicability | Yes |
§ 63.9(b) | Initial Notifications | Yes |
§ 63.9(c) | Request for Compliance Extension | Yes |
§ 63.9(d) | Notification That a New Source Is Subject to Special Compliance Requirements | Yes |
§ 63.9(e) | Notification of Performance Test | Yes | Applies only to sources with add-on controls.
§ 63.9(f) | Notification of Visible Emissions/Opacity Test | No | Subpart VVVV does not have opacity or visible emission standards.
§ 63.9(g)(1) | Additional CMS Notifications—Date of CMS Performance Evaluation | Yes | Applies only to sources with add-on controls.
§ 63.9(g)(2) | Use of COMS Data | No | Subpart VVVV does not require the use of COMS.
§ 63.9(g)(3) | Alternative to Relative Accuracy Testing | Yes | Applies only to sources with CEMS.
§ 63.9(h) | Notification of Compliance Status | Yes |
§ 63.9(i) | Adjustment of Deadlines | Yes |
§ 63.9(j) | Change in Previous Information | Yes |
§ 63.10(a) | Recordkeeping/Reporting—Applicability | Yes |
§ 63.10(b)(1) | General Recordkeeping Requirements | Yes | §§ 63.567 and 63.5770 specify additional recordkeeping requirements.
§ 63.10(b)(2)(i), (iii), (vi)-(xiv) | General Recordkeeping Requirements | Yes |
§ 63.10(b)(2)(ii), (iv), (v) | Recordkeeping Relevant to Startup, Shutdown, and Malfunction Periods | No |
§ 63.10(b)(3) | Recordkeeping Requirements for Applicability Determinations | Yes | § 63.5686 specifies applicability determinations for non-major sources.
§ 63.10(c)(1)-(14) | Additional Recordkeeping for Sources with CMS | Yes | Applies only to sources with add-on controls.
§ 63.10(c)(15) | Additional Recordkeeping for Sources with CMS | No | No requirement for a startup, shutdown, malfunction plan.
§ 63.10(d)(1) | General Reporting Requirements | Yes | § 63.5764 specifies additional reporting requirements.
§ 63.10(d)(2) | Performance Test Results | Yes | § 63.5764 specifies additional requirements for reporting performance test results.
§ 63.10(d)(3) | Opacity or Visible Emissions Observations | No | Subpart VVVV does not specify opacity or visible emission standards.
§ 63.10(d)(4) | Progress Reports for Sources with Compliance Extensions | Yes |
§ 63.10(d)(5) | Startup, Shutdown, and Malfunction Reports | No | Applies only to sources with add-on controls.
§ 63.10(e)(1) | Additional CMS Reports—General | Yes | Applies only to sources with add-on controls.
§ 63.10(e)(2) | Reporting Results of CMS Performance Evaluations | Yes | Applies only to sources with add-on controls.
§ 63.10(e)(3) | Excess Emissions/CMS Performance Reports | Yes | Applies only to sources with add-on controls.
§ 63.10(e)(4) | COMS Data Reports | No | Subpart VVVV does not specify opacity or visible emission standards.
§ 63.10(f) | Recordkeeping/Reporting Waiver | Yes |
§ 63.11 | Control Device Requirements—Applicability | No | Facilities subject to subpart VVVV do not use flares as control devices.
§ 63.12 | State Authority and Delegations | Yes | § 63.5776 lists those sections of subpart A that are not delegated.
§ 63.13 | Addresses | Yes |
§ 63.14 | Incorporation by Reference | Yes |
§ 63.15 | Availability of Information/Confidentiality | Yes |

Subpart WWWW—National Emissions Standards for Hazardous Air Pollutants: Reinforced Plastic Composites Production

8. Section 63.5835 is amended by:

a. Revising paragraph (b); and

b. Removing paragraph (d).

The revision reads as follows:

§ 63.5835 What are my general requirements for complying with this subpart?

* * * * *

(b) You must be in compliance with all organic HAP emissions limits in this subpart that you meet using add-on controls at all times.

* * * * *

9. Section 63.5900 is amended by:

a. Revising paragraph (c); and

b. Removing paragraphs (d) and (e).

The revision reads as follows:

§ 63.5900 How do I demonstrate continuous compliance with the standards?

* * * * *

(c) You must meet the organic HAP emissions limits and work practice standards that apply to you at all times.

10. Section 63.5910 is amended by:

a. Removing and reserving paragraph (c)(4); and

b. Revising paragraphs (d) introductory text and (e) and (h).

The revisions read as follows:

§ 63.5910 What reports must I submit and when?

* * * * *

(d) For each deviation from an organic HAP emissions limitation or operating limit and for each deviation from the requirements for work practice standards that occurs at an affected source where you are not using a CMS to comply with the organic HAP emissions limitations or work practice standards in this subpart, the compliance report must contain the information in paragraphs (c)(1) through (3) of this section and in paragraphs (d)(1) and (2) of this section.

* * * * *

(e) For each deviation from an organic HAP emissions limitation (i.e., emissions limit and operating limit) occurring at an affected source where you are using a CMS to comply with the organic HAP emissions limitation in this subpart, you must include the information in paragraphs (c)(1) through (3) of this section and in paragraphs (e)(1) through (6) of this section.

(1) The date and time that each malfunction started and stopped.

(2) The date and time that each CMS was inoperative, except for zero (low-level) and high-level checks.

(3) The date, time, and duration that each CMS was out of control, including the information in § 63.8(c)(8).

(4) The date and time that each deviation started and stopped.

(5) A summary of the total duration of the deviation during the reporting period and the total duration as a percent of the total source operating time during that reporting period.

(6) A breakdown of the total duration of the deviations during the reporting period into those that are due to control equipment problems, process problems, other known causes, and other unknown causes.

* * * * *

(h) Submit compliance reports based on the requirements in §§ 63.5910 and 63.5912 and table 14 to this subpart, and not based on the requirements in § 63.999.

* * * * *

11. Section 63.5912 is added to read as follows:

§ 63.5912 How do I submit my reports?

(a) Within 60 days after the date of completing each performance test required by this subpart, you must submit the results of the performance test following the procedures specified in paragraphs (a)(1) through (3) of this section.

(1) Data collected using test methods supported by the EPA's Electronic Reporting Tool (ERT) as listed on the EPA's ERT website (https://www.epa.gov/electronic-reporting-air-emissions/electronic-reporting-tool-ert) at the time of the test. Submit the results of the performance test to the EPA via the Compliance and Emissions Data Reporting Interface (CEDRI), which can be accessed through the EPA's Central Data Exchange (CDX) (https://cdx.epa.gov/). The data must be submitted in a file format generated through the use of the EPA's ERT. Alternatively, you may submit an electronic file consistent with the extensible markup language (XML) schema listed on the EPA's ERT website.

(2) Data collected using test methods that are not supported by the EPA's ERT as listed on the EPA's ERT website at the time of the test. The results of the performance test must be included as an attachment in the ERT or an alternate electronic file consistent with the XML schema listed on the EPA's ERT website. Submit the ERT generated package or alternative file to the EPA via CEDRI.

(3) Confidential business information (CBI). If you claim some of the information submitted under paragraph (a)(1) of this section is CBI, you must submit a complete file, including information claimed to be CBI, to the EPA. The file must be generated through the use of the EPA's ERT or an alternate electronic file consistent with the XML schema listed on the EPA's ERT website. Submit the file on a compact disc, flash drive, or other commonly used electronic storage medium and clearly mark the medium as CBI. Mail the electronic medium to U.S. EPA/OAQPS/CORE CBI Office, Attention: Group Leader, Measurement Policy Group, MD C404-02, 4930 Old Page Rd., Durham, NC 27703. The same file with the CBI omitted must be submitted to the EPA via the EPA's CDX as described in paragraph (a)(1) of this section.

(b) Within 60 days after the date of completing each continuous monitoring system (CMS) performance evaluation as defined in § 63.2, you must submit the results of the performance evaluation following the procedures specified in paragraphs (b)(1) through (3) of this section.

(1) Performance evaluations of CMS measuring relative accuracy test audit (RATA) pollutants that are supported by the EPA's ERT as listed on the EPA's ERT website at the time of the evaluation. Submit the results of the performance evaluation to the EPA via CEDRI, which can be accessed through the EPA's CDX. The data must be submitted in a file format generated through the use of the EPA's ERT. Alternatively, you may submit an electronic file consistent with the XML schema listed on the EPA's ERT website.

(2) Performance evaluations of CMS measuring RATA pollutants that are not supported by the EPA's ERT as listed on the EPA's ERT website at the time of the evaluation. The results of the performance evaluation must be included as an attachment in the ERT or an alternate electronic file consistent with the XML schema listed on the EPA's ERT website. Submit the ERT generated package or alternative file to the EPA via CEDRI.

(3) Confidential business information (CBI). If you claim some of the information submitted under paragraph (a)(1) of this section is CBI, you must submit a complete file, including information claimed to be CBI, to the EPA. The file must be generated through the use of the EPA's ERT or an alternate electronic file consistent with the XML schema listed on the EPA's ERT website. Submit the file on a compact disc, flash drive, or other commonly used electronic storage medium and clearly mark the medium as CBI. Mail the electronic medium to U.S. EPA/OAQPS/CORE CBI Office, Attention: Group Leader, Measurement Policy Group, MD C404-02, 4930 Old Page Rd., Durham, NC 27703. The same file with the CBI omitted must be submitted to the EPA via the EPA's CDX as described in paragraph (a)(1) of this section.

(c) For sources that commence construction or reconstruction before or on May 17, 2019, you must submit to the Administrator semiannual compliance reports of the information required in § 63.5910(c),(d), (e), (f), and (i) beginning on September 16, 2020. For sources that commence construction or reconstruction after May 17, 2019, you must submit to the Administrator semiannual compliance reports of the information required in § 63.5910(c), (d), (e), (f), and (i) beginning on March 20, 2020, or upon startup, whichever is later.

(d) If you are required to submit reports following the procedure specified in this paragraph (d), beginning on September 17, 2020, you must submit all subsequent reports to the EPA via CEDRI, which can be accessed through the EPA's CDX (https://cdx.epa.gov/). You must use the appropriate electronic report template on the CEDRI website (https://www.epa.gov/electronic-reporting-air-emissions/compliance-and-emissions-data-reporting-interface-cedri) for this subpart. The report must be submitted by the deadline specified in this subpart, regardless of the method in which the report is submitted. If you claim some of the information required to be submitted via CEDRI is CBI, submit a complete report, including information claimed to be CBI, to the EPA. The report must be generated using the appropriate form on the CEDRI website or an alternate electronic file consistent with the XML schema listed on the CEDRI website. Submit the file on a compact disc, flash drive, or other commonly used electronic storage medium and clearly mark the medium as CBI. Mail the electronic medium to U.S. EPA/OAQPS/CORE CBI Office, Attention: Group Leader, Measurement Policy Group, MD C404-02, 4930 Old Page Rd., Durham, NC 27703. The same file with the CBI omitted must be submitted to the EPA via the EPA's CDX as described earlier in this paragraph (d).

(e) If you are required to electronically submit a report through CEDRI in the EPA's CDX, you may assert a claim of EPA system outage for failure to timely comply with the reporting requirement. To assert a claim of EPA system outage, you must meet the requirements outlined in paragraphs (e)(1) through (7) of this section.

(1) You must have been or will be precluded from accessing CEDRI and submitting a required report within the time prescribed due to an outage of either the EPA's CEDRI or CDX systems.

(2) The outage must have occurred within the period of time beginning five business days prior to the date that the submission is due.

(3) The outage may be planned or unplanned.

(4) You must submit notification to the Administrator in writing as soon as possible following the date you first knew, or through due diligence should have known, that the event may cause or has caused a delay in reporting.

(5) You must provide to the Administrator a written description identifying:

(i) The date(s) and time(s) when CDX or CEDRI was accessed and the system was unavailable;

(ii) A rationale for attributing the delay in reporting beyond the regulatory deadline to EPA system outage;

(iii) Measures taken or to be taken to minimize the delay in reporting; and

(iv) The date by which you propose to report, or if you have already met the reporting requirement at the time of the notification, the date you reported.

(6) The decision to accept the claim of EPA system outage and allow an extension to the reporting deadline is solely within the discretion of the Administrator.

(7) In any circumstance, the report must be submitted electronically as soon as possible after the outage is resolved.

(f) If you are required to electronically submit a report through CEDRI in the EPA's CDX, you may assert a claim of force majeure for failure to timely comply with the reporting requirement. To assert a claim of force majeure, you must meet the requirements outlined in paragraphs (f)(1) through (5) of this section.

(1) You may submit a claim if a force majeure event is about to occur, occurs, or has occurred or there are lingering effects from such an event within the period of time beginning five business days prior to the date the submission is due. For the purposes of this section, a force majeure event is defined as an event that will be or has been caused by circumstances beyond the control of the affected facility, its contractors, or any entity controlled by the affected facility that prevents you from complying with the requirement to submit a report electronically within the time period prescribed. Examples of such events are acts of nature (e.g., hurricanes, earthquakes, or floods), acts of war or terrorism, or equipment failure or safety hazard beyond the control of the affected facility (e.g., large scale power outage).

(2) You must submit notification to the Administrator in writing as soon as possible following the date you first knew, or through due diligence should have known, that the event may cause or has caused a delay in reporting.

(3) You must provide to the Administrator:

(i) A written description of the force majeure event;

(ii) A rationale for attributing the delay in reporting beyond the regulatory deadline to the force majeure event;

(iii) A description of measures taken or to be taken to minimize the delay in reporting; and

(iv) The date by which you propose to report, or if you have already met the reporting requirement at the time of the notification, the date you reported.

(4) The decision to accept the claim of force majeure and allow an extension to the reporting deadline is solely within the discretion of the Administrator.

(5) In any circumstance, the reporting must occur as soon as possible after the force majeure event occurs.

§ 63.5915 [Amended]

12. Section 63.5915 is amended by removing and reserving paragraph (a)(2).

13. Section 63.5920 is amended by adding paragraph (e) to read as follows:

§ 63.5920 In what form and how long must I keep my records?

* * * * *

(e) Any records required to be maintained by this part that are submitted electronically via the EPA's CEDRI may be maintained in electronic format. This ability to maintain electronic copies does not affect the requirement for facilities to make records, data, and reports available upon request to a delegated air agency or the EPA as part of an on-site compliance evaluation.

14. Section 63.5935 is amended by adding the definitions for “Deviation after”, “Deviation before”, “Shutdown”, and “Startup” in alphabetical order to read as follows:

§ 63.5935 What definitions apply to this subpart?

* * * * *

Deviation after September 16, 2020, means any instance in which an affected source subject to this subpart, or an owner or operator of such a source:

(1) Fails to meet any requirement or obligation established by this subpart, including, but not limited to, any emission limit, operating limit, or work practice standard; or

(2) Fails to meet any term or condition that is adopted to implement an applicable requirement in this subpart and that is included in the operating permit for any affected source required to obtain such a permit.

Deviation before September 17, 2020, means any instance in which an affected source subject to this subpart, or an owner or operator of such a source:

(1) Fails to meet any requirement or obligation established by this subpart, including, but not limited to, any emission limit, operating limit, or work practice standard; or

(2) Fails to meet any term or condition that is adopted to implement an applicable requirement in this subpart and that is included in the operating permit for any affected source required to obtain such a permit; or

(3) Fails to meet any emission limit, or operating limit, or work practice standard in this subpart during startup, shutdown, or malfunction, regardless of whether or not such failure is permitted by this subpart.

* * * * *

Shutdown after September 16, 2020, means the cessation of operation of the add-on control devices.

* * * * *

Startup after September 17, 2020, means the setting in operation of the add-on control devices.

* * * * *

15. Table 4 of subpart WWWW of part 63 is revised to read as follows:

Table 4 to Subpart WWWW of Part 63—Work Practice Standards

As specified in § 63.5805, you must meet the work practice standards in the following table that apply to you:

For . . . | You must . . .
1. A new or existing closed molding operation using compression/injection molding | Uncover, unwrap or expose only one charge per mold cycle per compression/injection molding machine. For machines with multiple molds, one charge means sufficient material to fill all molds for one cycle. For machines with robotic loaders, no more than one charge may be exposed prior to the loader. For machines fed by hoppers, sufficient material may be uncovered to fill the hopper. Hoppers must be closed when not adding materials. Materials may be uncovered to feed to slitting machines. Materials must be recovered after slitting.
2. A new or existing cleaning operation | Not use cleaning solvents that contain HAP, except that styrene may be used as a cleaner in closed systems, and organic HAP containing cleaners may be used to clean cured resin from application equipment. Application equipment includes any equipment that directly contacts resin.
3. A new or existing materials HAP-containing materials storage operation | Keep containers that store HAP-containing materials closed or covered except during the addition or removal of materials. Bulk HAP-containing materials storage tanks may be vented as necessary for safety.
4. An existing or new SMC manufacturing operation | Close or cover the resin delivery system to the doctor box on each SMC manufacturing machine. The doctor box itself may be open.
5. An existing or new SMC manufacturing operation | Use a nylon containing film to enclose SMC.
6. All mixing or BMC manufacturing operations¹ | Use mixer covers with no visible gaps present in the mixer covers, except that gaps of up to 1 inch are permissible around mixer shafts and any required instrumentation. Mixers where the emissions are fully captured and routed to a 95 percent efficient control device are exempt from this requirement.
7. All mixing or BMC manufacturing operations¹ | Close any mixer vents when actual mixing is occurring, except that venting is allowed during addition of materials, or as necessary prior to adding materials or opening the cover for safety. Vents routed to a 95 percent efficient control device are exempt from this requirement.
8. All mixing or BMC manufacturing operations¹ | Keep the mixer covers closed while actual mixing is occurring except when adding materials or changing covers to the mixing vessels.
9. A new or existing pultrusion operation manufacturing parts that meet the following criteria: 1,000 or more reinforcements or the glass equivalent of 1,000 ends of 113 yield roving or more; and have a cross sectional area of 60 square inches or more that is not subject to the 95-percent organic HAP emission reduction requirement | i. Not allow vents from the building ventilation system, or local or portable fans to blow directly on or across the wet-out area(s), ii. Not permit point suction of ambient air in the wet-out area(s) unless that air is directed to a control device, iii. Use devices such as deflectors, baffles, and curtains when practical to reduce air flow velocity across the wet-out area(s), iv. Direct any compressed air exhausts away from resin and wet-out area(s),
| v. Convey resin collected from drip-off pans or other devices to reservoirs, tanks, or sumps via covered troughs, pipes, or other covered conveyance that shields the resin from the ambient air, vi. Cover all reservoirs, tanks, sumps, or HAP-containing materials storage vessels except when they are being charged or filled, and vii. Cover or shield from ambient air resin delivery systems to the wet-out area(s) from reservoirs, tanks, or sumps where practical.
¹ Containers of 5 gallons or less may be open when active mixing is taking place, or during periods when they are in process (i.e., they are actively being used to apply resin). For polymer casting mixing operations, containers with a surface area of 500 square inches or less may be open while active mixing is taking place.

16. Table 14 of subpart WWWW of part 63 is revised to read as follows:

Table 14 to Subpart WWWW of Part 63—Requirements for Reports

As required in § 63.5910(a), (b), (g), and (h), you must submit reports on the schedule shown in the following table:

You must submit a(n) | The report must contain . . . | You must submit the report . . .
1. Compliance report | a. A statement that there were no deviations during that reporting period if there were no deviations from any emission limitations (emission limit, operating limit, opacity limit, and visible emission limit) that apply to you and there were no deviations from the requirements for work practice standards in Table 4 to this subpart that apply to you. If there were no periods during which the CMS, including CEMS, and operating parameter monitoring systems, was out of control as specified in § 63.8(c)(7), the report must also contain a statement that there were no periods during which the CMS was out of control during the reporting period | Semiannually according to the requirements in § 63.5910(b).
| b. The information in § 63.5910(d) if you have a deviation from any emission limitation (emission limit, operating limit, or work practice standard) during the reporting period. If there were periods during which the CMS, including CEMS, and operating parameter monitoring systems, was out of control, as specified in § 63.8(c)(7), the report must contain the information in § 63.5910(e) | Semiannually according to the requirements in § 63.5910(b).

17. Table 15 of subpart WWWW of part 63 is revised to read as follows:

Table 15 to Subpart WWWW of Part 63—Applicability of General Provisions (Subpart A) to Subpart WWWW of Part 63

As specified in § 63.5925, the parts of the General Provisions which apply to you are shown in the following table:

The general provisions reference . . . | That addresses . . . | And applies to subpart WWWW of part 63 . . . | Subject to the following additional information . . .
§ 63.1(a)(1) | General applicability of the general provisions | Yes | Additional terms defined in subpart WWWW of part 63, when overlap between subparts A and WWWW of this part, subpart WWWW of part 63 takes precedence.
§ 63.1(a)(2) through (4) | General applicability of the general provisions | Yes |
§ 63.1(a)(5) | Reserved | No |
§ 63.1(a)(6) | General applicability of the general provisions | Yes |
§ 63.1(a)(7) through (9) | Reserved | No |
§ 63.1(a)(10) through (14) | General applicability of the general provisions | Yes |
§ 63.1(b)(1) | Initial applicability determination | Yes | Subpart WWWW of part 63 clarifies the applicability in §§ 63.5780 and 63.5785.
§ 63.1(b)(2) | Reserved | No |
§ 63.1(b)(3) | Record of the applicability determination | Yes |
§ 63.1(c)(1) | Applicability of this part after a relevant standard has been set under this part | Yes | Subpart WWWW of part 63 clarifies the applicability of each paragraph of subpart A to sources subject to subpart WWWW of part 63.
§ 63.1(c)(2) | Title V operating permit requirement | Yes | All major affected sources are required to obtain a title V operating permit. Area sources are not subject to subpart WWWW of part 63.
§ 63.1(c)(3) and (4) | Reserved | No |
§ 63.1(c)(5) | Notification requirements for an area source that increases HAP emissions to major source levels | Yes |
§ 63.1(d) | Reserved | No |
§ 63.1(e) | Applicability of permit program before a relevant standard has been set under this part | Yes |
§ 63.2 | Definitions | Yes | Subpart WWWW of part 63 defines terms in § 63.5935. When overlap between subparts A and WWWW of part 63 occurs, you must comply with the subpart WWWW of part 63 definitions, which take precedence over the subpart A definitions.
§ 63.3 | Units and abbreviations | Yes | Other units and abbreviations used in subpart WWWW of part 63 are defined in subpart WWWW of part 63.
§ 63.4 | Prohibited activities and circumvention | Yes | § 63.4(a)(3) through (5) is reserved and does not apply.
§ 63.5(a)(1) and (2) | Applicability of construction and reconstruction | Yes | Existing facilities do not become reconstructed under subpart WWWW of part 63.
§ 63.5(b)(1) | Relevant standards for new sources upon construction | Yes | Existing facilities do not become reconstructed under subpart WWWW of part 63.
§ 63.5(b)(2) | Reserved | No |
§ 63.5(b)(3) | New construction/reconstruction | Yes | Existing facilities do not become reconstructed under subpart WWWW of part 63.
§ 63.5(b)(4) | Construction/reconstruction notification | Yes | Existing facilities do not become reconstructed under subpart WWWW of part 63.
§ 63.5(b)(5) | Reserved | No |
§ 63.5(b)(6) | Equipment addition or process change | Yes | Existing facilities do not become reconstructed under subpart WWWW of part 63.
§ 63.5(c) | Reserved | No |
§ 63.5(d)(1) | General application for approval of construction or reconstruction | Yes | Existing facilities do not become reconstructed under subpart WWWW of part 63.
§ 63.5(d)(2) | Application for approval of construction | Yes |
§ 63.5(d)(3) | Application for approval of reconstruction | No |
§ 63.5(d)(4) | Additional information | Yes |
§ 63.5(e)(1) through (5) | Approval of construction or reconstruction | Yes |
§ 63.5(f)(1) and (2) | Approval of construction or reconstruction based on prior State preconstruction review | Yes |
§ 63.6(a)(1) | Applicability of compliance with standards and maintenance requirements | Yes |
§ 63.6(a)(2) | Applicability of area sources that increase HAP emissions to become major sources | Yes |
§ 63.6(b)(1) through (5) | Compliance dates for new and reconstructed sources | Yes | Subpart WWWW of part 63 clarifies compliance dates in § 63.5800.
§ 63.6(b)(6) | Reserved | No |
§ 63.6(b)(7) | Compliance dates for new operations or equipment that cause an area source to become a major source | Yes | New operations at an existing facility are not subject to new source standards.
§ 63.6(c)(1) and (2) | Compliance dates for existing sources | Yes | Subpart WWWW of part 63 clarifies compliance dates in § 63.5800.
§ 63.6(c)(3) and (4) | Reserved | No |
§ 63.6(c)(5) | Compliance dates for existing area sources that become major | Yes | Subpart WWWW of part 63 clarifies compliance dates in § 63.5800.
§ 63.6(d) | Reserved | No |
§ 63.6(e)(1) | Operation and maintenance requirements | Yes | Except portions of § 63.6(e)(1)(i) and (ii) specific to conditions during startup, shutdown, or malfunction.
§ 63.6(e)(3) | SSM plan and recordkeeping | No |
§ 63.6(f)(1) | Compliance except during periods of startup, shutdown, and malfunction | No | Subpart WWWW of part 63 requires compliance at all times.
§ 63.6(f)(2) and (3) | Methods for determining compliance | Yes |
§ 63.6(g)(1) through (3) | Alternative standard | Yes |
§ 63.6(h) | Opacity and visible emission Standards | No | Subpart WWWW of part 63 does not contain opacity or visible emission standards.
§ 63.6(i)(1) through (14) | Compliance extensions | Yes |
§ 63.6(i)(15) | Reserved | No |
§ 63.6(i)(16) | Compliance extensions | Yes |
§ 63.6(j) | Presidential compliance exemption | Yes |
§ 63.7(a)(1) | Applicability of performance testing requirements | Yes |
§ 63.7(a)(2) | Performance test dates | No | Subpart WWWW of part 63 initial compliance requirements are in § 63.5840.
§ 63.7(a)(3) | CAA Section 114 authority | Yes |
§ 63.7(b)(1) | Notification of performance test | Yes |
§ 63.7(b)(2) | Notification rescheduled performance test | Yes |
§ 63.7(c) | Quality assurance program, including test plan | Yes | Except that the test plan must be submitted with the notification of the performance test.
§ 63.7(d) | Performance testing facilities | Yes |
§ 63.7(e) | Conditions for conducting performance tests | Yes | Performance test requirements are contained in § 63.5850. Additional requirements for conducting performance tests for continuous lamination/casting are included in § 63.5870. Conditions specific to operations during periods of startup, shutdown, and malfunction in § 63.7(e)(1) do not apply.
§ 63.7(f) | Use of alternative test method | Yes |
§ 63.7(g) | Performance test data analysis, recordkeeping, and reporting | Yes |
§ 63.7(h) | Waiver of performance tests | Yes |
§ 63.8(a)(1) and (2) | Applicability of monitoring requirements | Yes |
§ 63.8(a)(3) | Reserved | No |
§ 63.8(a)(4) | Monitoring requirements when using flares | Yes |
§ 63.8(b)(1) | Conduct of monitoring exceptions | Yes |
§ 63.8(b)(2) and (3) | Multiple effluents and multiple monitoring systems | Yes |
§ 63.8(c)(1) | Compliance with CMS operation and maintenance requirements | Yes | This section applies if you elect to use a CMS to demonstrate continuous compliance with an emission limit. Except references to SSM plans in § 63.8(c)(1)(i) and (iii).
§ 63.8(c)(2) and (3) | Monitoring system installation | Yes | This section applies if you elect to use a CMS to demonstrate continuous compliance with an emission limit.
§ 63.8(c)(4) | CMS requirements | Yes | This section applies if you elect to use a CMS to demonstrate continuous compliance with an emission limit.
§ 63.8(c)(5) | Continuous Opacity Monitoring System (COMS) minimum procedures | No | Subpart WWWW of part 63 does not contain opacity standards.
§ 63.8(c)(6) through (8) | CMS calibration and periods CMS is out of control | Yes | This section applies if you elect to use a CMS to demonstrate continuous compliance with an emission limit.
§ 63.8(d)(1)-(2) | CMS quality control program, including test plan and all previous versions | Yes | This section applies if you elect to use a CMS to demonstrate continuous compliance with an emission limit.
§ 63.8(d)(3) | CMS quality control program, including test plan and all previous versions | Yes | Except references to SSM plans in § 63.8(d)(3).
§ 63.8(e)(1) | Performance evaluation of CMS | Yes | This section applies if you elect to use a CMS to demonstrate continuous compliance with an emission limit.
§ 63.8(e)(2) | Notification of performance evaluation | Yes | This section applies if you elect to use a CMS to demonstrate continuous compliance with an emission limit.
§ 63.8(e)(3) and (4) | CMS requirements/alternatives | Yes | This section applies if you elect to use a CMS to demonstrate continuous compliance with an emission limit.
§ 63.8(e)(5)(i) | Reporting performance evaluation results | Yes | This section applies if you elect to use a CMS to demonstrate continuous compliance with an emission limit.
§ 63.8(e)(5)(ii) | Results of COMS performance evaluation | No | Subpart WWWW of part 63 does not contain opacity standards.
§ 63.8(f)(1) through (3) | Use of an alternative monitoring method | Yes |
§ 63.8(f)(4) | Request to use an alternative monitoring method | Yes |
§ 63.8(f)(5) | Approval of request to use an alternative monitoring method | Yes |
§ 63.8(f)(6) | Request for alternative to relative accuracy test and associated records | Yes | This section applies if you elect to use a CMS to demonstrate continuous compliance with an emission limit.
§ 63.8(g)(1) through (5) | Data reduction | Yes |
§ 63.9(a)(1) through (4) | Notification requirements and general information | Yes |
§ 63.9(b)(1) | Initial notification applicability | Yes |
§ 63.9(b)(2) | Notification for affected source with initial startup before effective date of standard | Yes |
§ 63.9(b)(3) | Reserved | No |
§ 63.9(b)(4)(i) | Notification for a new or reconstructed major affected source with initial startup after effective date for which an application for approval of construction or reconstruction is required | Yes |
§ 63.9(b)(4)(ii) through (iv) | Reserved | No |
§ 63.9(b)(4)(v) | Notification for a new or reconstructed major affected source with initial startup after effective date for which an application for approval of construction or reconstruction is required | Yes | Existing facilities do not become reconstructed under subpart WWWW of part 63.
§ 63.9(b)(5) | Notification that you are subject to this subpart for new or reconstructed affected source with initial startup after effective date and for which an application for approval of construction or reconstruction is not required | Yes | Existing facilities do not become reconstructed under subpart WWWW of part 63.
§ 63.9(c) | Request for compliance extension | Yes |
§ 63.9(d) | Notification of special compliance requirements for new source | Yes |
§ 63.9(e) | Notification of performance test | Yes |
§ 63.9(f) | Notification of opacity and visible emissions observations | No | Subpart WWWW of part 63 does not contain opacity or visible emission standards.
§ 63.9(g)(1) | Additional notification requirements for sources using CMS | Yes | This section applies if you elect to use a CMS to demonstrate continuous compliance with an emission limit.
§ 63.9(g)(2) | Notification of compliance with opacity emission standard | No | Subpart WWWW of part 63 does not contain opacity emission standards.
§ 63.9(g)(3) | Notification that criterion to continue use of alternative to relative accuracy testing has been exceeded | Yes | This section applies if you elect to use a CMS to demonstrate continuous compliance with an emission limit.
§ 63.9(h)(1) through (3) | Notification of compliance status | Yes |
§ 63.9(h)(4) | Reserved | No |
§ 63.9(h)(5) and (6) | Notification of compliance status | Yes |
§ 63.9(i) | Adjustment of submittal deadlines | Yes |
§ 63.9(j) | Change in information provided | Yes |
§ 63.10(a) | Applicability of recordkeeping and reporting | Yes |
§ 63.10(b)(1) | Records retention | Yes |
§ 63.10(b)(2)(i) through (v) | Records related to startup, shutdown, and malfunction | No |
§ 63.10(b)(2)(vi) through (xi) | CMS records, data on performance tests, CMS performance evaluations, measurements necessary to determine conditions of performance tests, and performance evaluations | Yes |
§ 63.10(b)(2)(xii) | Record of waiver of recordkeeping and reporting | Yes |
§ 63.10(b)(2)(xiii) | Record for alternative to the relative accuracy test | Yes |
§ 63.10(b)(2)(xiv) | Records supporting initial notification and notification of compliance status | Yes |
§ 63.10(b)(3) | Records for applicability determinations | Yes |
§ 63.10(c)(1) | CMS records | Yes | This section applies if you elect to use a CMS to demonstrate continuous compliance with an emission limit.
§ 63.10(c)(2) through (4) | Reserved | No |
§ 63.10(c)(5) through (8) | CMS records | Yes | This section applies if you elect to use a CMS to demonstrate continuous compliance with an emission limit.
§ 63.10(c)(9) | Reserved | No |
§ 63.10(c)(10) through (14) | CMS records | Yes | This section applies if you elect to use a CMS to demonstrate continuous compliance with an emission limit.
§ 63.10(c)(15) | CMS records | No |
§ 63.10(d)(1) | General reporting requirements | Yes |
§ 63.10(d)(2) | Report of performance test results | Yes |
§ 63.10(d)(3) | Reporting results of opacity or visible emission observations | No | Subpart WWWW of part 63 does not contain opacity or visible emission standards.
§ 63.10(d)(4) | Progress reports as part of extension of compliance | Yes |
§ 63.10(d)(5) | Startup, shutdown, and malfunction reports | No |
§ 63.10(e)(1) through (3) | Additional reporting requirements for CMS | Yes | This section applies if you have an add-on control device and elect to use a CEM to demonstrate continuous compliance with an emission limit.
§ 63.10(e)(4) | Reporting COMS data | No | Subpart WWWW of part 63 does not contain opacity standards.
§ 63.10(f) | Waiver for recordkeeping or reporting | Yes |
§ 63.11 | Control device requirements | Yes | Only applies if you elect to use a flare as a control device.
§ 63.12 | State authority and delegations | Yes |
§ 63.13 | Addresses of state air pollution control agencies and EPA Regional offices | Yes |
§ 63.14 | Incorporations by reference | Yes |
§ 63.15 | Availability of information and confidentiality | Yes |

[FR Doc. 2020-04661 Filed 3-19-20; 8:45 am]

BILLING CODE 6560-50-P